ENVIRONMENTAL PROTECTION AGENCY

40 CFR Part 63

[OAR-2003-0048; FRL-7947-8]

RIN 2060-AM78

National Emission Standards for Hazardous Air Pollutants: Plywood and Composite Wood Products

AGENCY: Environmental Protection Agency (EPA).

ACTION: Proposed rule; amendments.

SUMMARY: On July 30, 2004, EPA promulgated national emission standards for hazardous air pollutants (NESHAP) for the plywood and composite wood products (PCWP) source category. Stakeholders expressed concern with some of the final rule requirements, including definitions; the emissions testing procedures required for facilities demonstrating eligibility for the low-risk subcategory; stack height calculations to be used in low-risk subcategory eligibility demonstrations; and permitting and timing issues associated with the low-risk subcategory eligibility demonstrations. In this action, EPA proposes amendments to the final PCWP NESHAP to address these issues and to correct any other inconsistencies that were discovered during the review process. This action also clarifies some common applicability questions. We are seeking comment on the provisions of the final PCWP rule outlined in this action. We are not requesting comments addressing other provisions of the final PCWP rule.

DATES: Comments. Comments must be received on or before September 12, 2005.

Public Hearing. If anyone contacts EPA requesting to speak at a public hearing by August 8, 2005, a public hearing will be held on August 15, 2005. For further information on the public hearing and requests to speak, see the ADDRESSES section of this preamble.

ADDRESSES: Comments. Submit your comments, identified by Docket ID No. OAR-2003-0048 (Legacy Docket ID No. A-98-44) by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: a-and-r-docket@epa.gov.

• Fax: (202) 566-1741.

• Mail: Air and Radiation Docket and Information Center, EPA, Mailcode: 6102T, 1200 Pennsylvania Avenue, NW., Washington, DC 20460.

• Hand Delivery: Air and Radiation Docket and Information Center, EPA, Room B102, 1301 Constitution Avenue, NW., Washington, DC. Such deliveries are only accepted during the Docket's normal hours of operation, and special arrangements should be made for deliveries of boxed information.

Instructions. Direct your comments to Docket ID No. OAR-2003-0048 (Legacy Docket ID No. A-98-44). EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. EPA EDOCKET and the Federal regulations.gov websites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Public Hearing. If a public hearing is held, it will be held on August 15, 2005 at the EPA facility, Research Triangle Park, NC or an alternative site nearby. Persons interested in attending the hearing or wishing to present oral testimony should notify Ms. Mary Tom Kissell at least 2 days in advance of the public hearing (see FOR FURTHER INFORMATION CONTACT section of this preamble). The public hearing will provide interested parties the opportunity to present data, views, or arguments concerning this proposed rule.

Docket. EPA has established an official public docket for today's proposed amendments, including both Docket ID No. OAR-2003-0048 and Legacy Docket ID No. A-98-44. The official public docket consists of the documents specifically referenced in today's proposed amendments, any public comments received, and other information related to the proposed amendments. All items may not be listed under both docket numbers, so interested parties should inspect both docket numbers to ensure that they have received all materials relevant to today's proposed amendments. Although listed in the index, some information is not publicly available, i.e., CBI or other information whose disclosure is restricted by statute. Certain other material, such as copyrighted material, is not placed on the Internet and will be publicly available only in hard copy form. Publicly available docket materials are available either electronically in EDOCKET or in hard copy at the Air and Radiation Docket and Information Center, EPA, Room B102, 1301 Constitution Avenue, NW., Washington, DC. The Public Reading Room is open from 8:30 a.m. to 4:30 p.m., Monday through Friday, excluding legal holidays. The telephone number for the Public Reading Room is (202) 566-1744, and the telephone number for the Air and Radiation Docket and Information Center is (202) 566-1742.

FOR FURTHER INFORMATION CONTACT: For general and technical information, and questions about the public hearing, contact Ms. Mary Tom Kissell, Waste and Chemical Processes Group, Emission Standards Division, Mailcode: C439-03, EPA, Research Triangle Park, NC 27711; telephone number: (919) 541-4516; fax number: (919) 541-0246; e-mail address: kissell.mary@epa.gov.

SUPPLEMENTARY INFORMATION: The information presented in this preamble is organized as follows:

I. General Information

A. Do these proposed amendments apply to me?

B. How do I submit CBI?

C. How do I obtain a copy of this document and other related information?

II. Background

III. Summary of the Proposed Amendments

IV. Rationale for the Proposed Amendments

A. Amendments to Subpart DDDD of 40 CFR Part 63

B. Amendments to Appendix B to Subpart DDDD of 40 CFR Part 63

C. Other Amendments to the Rule

V. Additional Clarifications

A. Integrated Drying Systems Where Combustion Units That Heat the Dryers Are Used as Control Devices

B. Applicability of the PCWP Rule to Hot Pressing of Veneers onto a Substrate

VI. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children from Environmental Health & Safety Risks

H. Executive Order 13211: Actions that Significantly Affect Energy Supply, Distribution, or Use

I. National Technology Transfer and Advancement Act

I. General Information

A. Do these proposed amendments apply to me?

Categories and entities potentially affected by today's proposed amendments include:

Category | SIC code ᵃ | NAICS code ᵇ | Examples of regulated entities
Industry | 2421 | 321999 | Sawmills with lumber kilns.
| 2435 | 321211 | Hardwood plywood and veneer plants.
| 2436 | 321212 | Softwood plywood and veneer plants.
| 2493 | 321219 | Reconstituted wood products plants (particleboard, medium density fiberboard, hardboard, fiberboard, and oriented strandboard plants).
| 2439 | 321213 | Structural wood members, not elsewhere classified (engineered wood products plants).
ᵃ Standard Industrial Classification.
ᵇ North American Industrial Classification System.

This table is not intended to be exhaustive, but rather provides a guide for readers regarding entities likely to be affected by today's proposed amendments. To determine whether your facility is affected by today's proposed amendments, you should examine the applicability criteria in § 63.2231 of the final rule. If you have questions regarding the applicability of today's proposed amendments to a particular entity, consult Ms. Mary Tom Kissell listed in the preceding FOR FURTHER INFORMATION CONTACT section.

B. How do I submit CBI?

Do not submit this information to EPA through EDOCKET, regulations.gov, or e-mail. Clearly mark the part or all of the information that you claim to be CBI. For CBI in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

C. How do I obtain a copy of this document and other related information?

In addition to being available in the docket, an electronic copy of today's proposed amendments also will be available on the World Wide Web (WWW) through EPA's Technology Transfer Network (TTN). Following the Administrator's signature, a copy of these proposed amendments will be posted on the TTN's policy and guidance page for newly proposed rules at http://www.epa.gov/ttn/oarpg. The TTN provides information and technology exchange in various areas of air pollution control.

II. Background

On July 30, 2004, we promulgated NESHAP for Plywood and Composite Wood Products Manufacturing as subpart DDDD in 40 CFR part 63 (69 FR 45944). Subpart DDDD contains two appendices: an alternative procedure for determining capture efficiency from hot press enclosures (appendix A to subpart DDDD of 40 CFR part 63), and methodology and criteria for demonstrating that an affected source is part of the low-risk subcategory of PCWP manufacturing affected sources (appendix B to subpart DDDD of 40 CFR part 63). Today we are proposing corrections and clarifications to subpart DDDD and both of the appendices to subpart DDDD. For subpart DDDD, we are proposing several changes to ensure that the rule is implemented as intended: (1) Amend the sampling location for coupled control devices; (2) amend language to clarify rule applicability during unscheduled startups and shutdowns; (3) add language to clarify rule applicability for affected sources with no process units subject to compliance options or work practice requirements; and (4) amend selected definitions. A minor numbering error is proposed to be corrected in appendix A to subpart DDDD. The majority of the amendments discussed in today's action are being proposed for appendix B to subpart DDDD. We are proposing amendments to appendix B to subpart DDDD to reduce the number of emissions tests required while ensuring that emissions from all PCWP process units are considered when demonstrating eligibility for the low-risk subcategory. For emission points that would still require emission tests, we are proposing that the emissions tests may be conducted after the low-risk demonstration is submitted. We are also proposing that physical changes necessary to ensure low risk may be completed after the low-risk demonstration is submitted. We are proposing to clarify the calculation of average stack height and some timing issues related to low-risk demonstrations, including the deadline for submitting low-risk demonstrations. Furthermore, we are proposing to amend subpart A to 40 CFR part 63 and subpart DDDD of 40 CFR part 63 and appendix B to subpart DDDD to allow use of a new hazardous air pollutants (HAP) test method developed by the National Council of the Paper Industry for Air and Stream Improvement (NCASI).

Following promulgation of the PCWP rule, the Administrator received a petition for reconsideration filed by the Natural Resources Defense Council (NRDC) and Environmental Integrity Project (EIP) pursuant to section 307(d)(7)(B) of the Clean Air Act (CAA).¹ The petition requested reconsideration of nine aspects of the final rule: (1) Risk assessment methodology; (2) background pollution and co-located emission sources; (3) dose-response value used for formaldehyde; (4) costs and benefits of the low-risk subcategory; (5) ecological risk; (6) legal basis for the risk-based approach; (7) maximum achievable control technology (MACT) compliance date for affected sources previously qualifying for the low-risk subcategory; (8) startup, shutdown, and malfunction (SSM) provisions; and (9) title V implementation mechanism for the risk-based approach. With the exception of the petitioners' issue with the SSM provisions in subpart DDDD of 40 CFR part 63, all of the petitioners' issues relate to the risk-based approach adopted in the final rule. The issues raised in the petition for reconsideration are broader in scope than the issues addressed in today's proposed amendments. We have published a separate notice of reconsideration to initiate rulemaking by requesting comments on the issues in the petition for reconsideration, including the full content of appendix B to subpart DDDD. We intend to address all comments received on the notice of reconsideration and today's proposed amendments by the time we finalize the amendments.

¹ In addition to the petition for reconsideration, four petitions for judicial review of the final PCWP rule were filed with the U.S. Court of Appeals for the District of Columbia by NRDC and Sierra Club (No. 04-1323, D.C. Cir.), EIP (No. 04-1235, D.C. Cir.), Louisiana-Pacific Corporation (No. 04-1328, D.C. Cir.), and Norbord Incorporated (No. 04-1329, D.C. Cir.). The four cases have been consolidated. In addition, the following parties have filed as interveners: American Forest and Paper Association (AF&PA), Hood Industries, Scotch Plywood, Coastal Lumber Company, Composite Panel Association, APA-The Engineered Wood Association, American Furniture Manufacturers Association, NRDC, Sierra Club, and EIP. Finally, the Formaldehyde Council, Inc. and the State and Territorial Air Pollution Program Administrators and Association of Local Air Pollution Control Officials (STAPPA/ALAPCO) are participating in the litigation as amicus curiae.

III. Summary of the Proposed Amendments

Today's proposed amendments to subpart DDDD of 40 CFR part 63 and its appendices are summarized in table 1 of this preamble.

Table 1.—Summary of the Proposed Amendments
Citation | Change
§§ 63.2232(b) and 63.2292 | Amend definition of “affected source” to include the combustion unit exhaust streams used to direct-fire process units.
§ 63.2250(a) | Amend the rule's language to clarify the applicability of the compliance options and operating requirements during unscheduled startups and shutdowns.
§ 63.2252 | Add a section to clarify that process units that are not subject to compliance options or work practice requirements (e.g., lumber kilns) are excluded from the performance testing, monitoring, SSM plan, recordkeeping, and reporting requirements, except for the initial notification requirements.
§ 63.2262(d)(1) | Allow testing between a wet control device followed by a HAP control device.
§ 63.2269(c) | Amend section to correct numbering of cross-referenced paragraphs.
§ 63.2292 | Amend the definition of “tube dryer” to clarify that heat is applied in the dryer to reduce the moisture content of the wood fibers or particles. Amend the definition of “plywood and composite wood products manufacturing facility” to clarify the products covered by subpart DDDD. Amend the definition of “plywood” to clarify that plywood products may be curved or flat. Add definitions of “molded particleboard” and “engineered wood product.”
§ 63.2292 and Appendix B, section 15 | Move the definition of “direct-fired process unit” from section 15 of appendix B to subpart DDDD to § 63.2292 of subpart DDDD.
Table 4, Lines 6-8 | Allow NCASI Method ISS/FP-A105.01 for testing of formaldehyde, methanol, and total HAP.
Table 4, line 10 and Appendix B, Table 2, line 10 | Clarify that measured emissions divided by the capture efficiency provides the emission rate for unenclosed and uncontrolled presses and board coolers.
Appendix A, section 10 | Correct misnumbering of sections 10.4 and 10.5.
Appendix B, sections 4(a), 5(a), 6(a) through (c), and Equations 1 and 2 | Amend terminology to refer to “emission point” instead of “process unit.”
Appendix B, section 5(a) and Table 2A | Add Table 2A and conforming text specifying which process units must be tested and which process units may use emission factors or engineering estimates to estimate emissions.
Appendix B, section 5(f)(1) | Add reference to NCASI IM/CAN/WP 99.02, EPA Method 18, and NCASI Method ISS/FP-A105.01.
Appendix B, section 5(f)(2) | Allow use of other EPA Method 29 laboratory analysis procedures with detection limits equal to or lower than atomic absorption spectroscopy (AAS) when claiming zero for non-detect HAP metals measurements.
Appendix B, section 5(i) | Allow use of previous emissions test results (e.g., NCASI IM/CAN/WP 99.01).
Appendix B, section 5(j) | Allow only one of multiple similar process units at a plant site to be tested (e.g., one of three veneer dryers at a plant).
Appendix B, section 5(k) | Specify requirements for developing emissions estimates according to Table 2A.
Appendix B, section 6(a) | Amend to clarify that section 6(a) applies when emissions estimation or testing is performed.
Appendix B, section 6(a) | Add equations for calculation of carcinogen and non-carcinogen weighted-average stack height.
Appendix B, sections 6(b), 6(c), 8(b)(1), and 8(b)(3) | Amend to clarify that weighted-average stack height calculations must be used.
Appendix B, section 7(a) | Amend to correct Web site address
Appendix B, section 8(a)(3) | Require submittal of emissions estimate calculations with low-risk demonstrations.
Appendix B, section 10(a) | Amend date for existing sources to conduct emissions tests and to submit demonstrations of eligibility for the low-risk subcategory.
Appendix B, section 10(c) | Amend date for new sources to conduct emissions tests and to submit demonstrations of eligibility for the low-risk subcategory.
Appendix B, section 11(b) | Amend to clarify that the parameters that defined the affected source as part of the low-risk subcategory must be submitted for incorporation into its title V permit, as opposed to having the permit revised before the MACT compliance date.
Appendix B, section 15 | Add definitions of various process units not defined in subpart DDDD and move definition of “direct-fired process unit” to § 63.2292.
Appendix B, Table 2 | Renumber as Table 2B. Replace footnote 1 related to benzene and acrolein testing with a footnote noting that direct-fired process units fired with only natural gas or propane are exempt from HAP metals testing.
Appendix B, Table 2, line 5 | Allow NCASI Method ISS/FP-A105.01 for testing of acetaldehyde, acrolein, formaldehyde, and phenol.
Appendix B, Table 2, line 6 | Allow use of NCASI IM/CAN/WP 99.02 or EPA Method 18 (40 CFR part 60, appendix A) for benzene testing.
Appendix B, Table 3 | Change column heading to “distance to property boundary.”
Appendix B, Tables 3 and 4 | Delete footnote regarding units of measure.

IV. Rationale for the Proposed Amendments

A. Amendments to Subpart DDDD of 40 CFR Part 63

1. Sampling Location

It is common in the PCWP industry for multiple add-on control devices to be used in series (e.g., a wet electrostatic precipitator (WESP) for control of particulate matter (PM) followed by a thermal oxidizer for control of organic HAP and volatile organic compounds (VOC)). Some types of PM control devices have no effect on HAP emissions, including cyclones, multiclones, and baghouses. Wet control devices such as wet scrubbers and WESP are used primarily for PM control but may also affect (either positively or negatively) HAP emissions. The proposed rule did not specify where inlet sampling sites should be located when the HAP control device is preceded by a wet scrubber or WESP. As a result of industry comments on the proposed rule, § 63.2262(d)(1) of the final PCWP rule requires that, “* * * for HAP-altering controls in sequence, such as a wet control device followed by a thermal oxidizer, sampling sites must be located at the functional inlet of the control sequence (e.g., prior to the wet control device) and at the outlet of the control sequence (e.g., thermal oxidizer outlet) and prior to any releases to the atmosphere.”

Following signature of the final rule, a stakeholder experienced with testing PCWP process units indicated that some coupled control systems are configured such that obtaining representative emissions measurements at sampling locations prior to the wet control device is not possible (e.g., inlet sampling locations fail to meet the criteria in Method 1 of 40 CFR part 60, appendix A). However, representative sampling could be accomplished at the outlet to the wet control device and inlet to the organic HAP control device. For those situations where coupled control systems are used to meet a compliance option that requires inlet sampling, we agree that sampling at the inlet of the HAP control device is sufficient and are proposing to amend the language in § 63.2262(d)(1) to allow this alternative.

2. Definitions

Tube dryer. Unlike in the proposed PCWP rule, primary tube dryers and secondary tube dryers are treated as separate process units in the final rule as a result of public comments received on the proposed rule (see 69 FR 45961-45962, July 30, 2004). Definitions of primary tube dryer and secondary tube dryer were added to the final rule to distinguish between the two types of tube dryers. The final rule also contains an associated definition of “tube dryer,” which is the same definition that was proposed. Following signature of the final rule, some industry representatives expressed concern that the definitions of tube dryer and secondary tube dryer could be misinterpreted to include ductwork used to pneumatically transfer hot wood furnish from a primary tube dryer to a holding bin, even though no heat is applied to the furnish as would occur for a secondary tube dryer. The promulgated definition indicates that the tube dryer is “* * * operated at elevated temperature and used to reduce the moisture of wood * * *” (which could occur with hot material passing though a duct even if no heat is applied). Given that tube dryers look like ductwork, we agree that this could be confusing to permitting authorities. To prevent misinterpretations and clarify that heat is applied in the tube dryer, we are proposing to amend the definition of “tube dryer” to replace the words “operated at elevated temperature and used” with “operated by applying heat.”

Affected source. Following Administrator signature of the final PCWP rule, it was brought to our attention that applicability of the final PCWP rule and the Industrial/Commercial/Institutional Boilers and Process Heaters NESHAP (40 CFR part 63, subpart DDDDD; referred to as the “Boilers/Process Heaters rule” throughout the remainder of this preamble) was unclear with respect to combustion units that direct-fire dryers. When a combustion unit supplies heat by directly exhausting combustion gas through a dryer, we would consider the dryer to be a “direct-fired dryer.” The HAP emissions from a direct-fired dryer are actually a combination of the emissions from the combustion unit exhausting into the dryer and the emissions that result from drying the wood. Because the final PCWP rule regulates emissions from direct-fired dryers, those combustion unit exhaust streams that direct-fire dryers would not be subject to the requirements of the final Boilers/Process Heaters rule. Section 63.7491(l) of the final Boilers/Process Heaters rule states that any boiler or process heater specifically listed as an affected source in another standard under 40 CFR part 63 is not subject to the Boilers/Process Heaters rule. Confusion has resulted because the PCWP affected source definition contains no mention of combustion units (e.g., boilers or process heaters). To clarify applicability of the final PCWP rule, we are proposing to amend the definition of “affected source” to clearly state that combustion unit exhaust streams used to direct-fire dryers are part of the PCWP affected source.

Our proposed amendment to the definition of “affected source” specifically refers to “any combustion unit exhaust stream” rather than to individual combustion units. There are numerous configurations of combustion units and drying operations in the PCWP industry including, for example, suspension burners that are built into individual dryers and stand-alone combustion units. Stand-alone combustion units can have several exhaust streams including, for example, exhaust streams that directly fire multiple dryers and exhaust streams that provide heat for other uses (e.g., indirect heat for a thermal oil heater). The exhaust streams that directly fire dryers would be part of the PCWP affected source because the combustion gases come into direct contact with the wood material, and the dryer exhaust is a mixture of combustion gases and process gases. An exhaust stream that supplies indirect heat for other uses would be part of the PCWP affected source if it is eventually routed through the direct-fired dryers, such that it too contacts the wood material and becomes a mixture of combustion gases and process gases. However, if the indirect heat exhaust stream does not routinely pass through the direct-fired dryers, then this exhaust stream would be subject to the final Boilers/Process Heaters rule. Thus, as stated in the preamble to the final PCWP rule (see 69 FR 45961 and 45963, July 30, 2004), there are combustion units in the PCWP industry that can be subject to both the PCWP and Boilers/Process Heaters final rules. We refer to “combustion unit exhaust stream” in our proposed amendment to clarify that different exhaust streams must be evaluated separately to determine applicability of the PCWP and Boilers/Process Heaters final rules for those individual exhaust streams.

Direct-fired process unit. In tandem with our proposed addition to the definition of “affected source,” we are also proposing to move the definition of “direct-fired process unit” from appendix B to subpart DDDD to § 63.2292 of subpart DDDD. Previously, the definition of “direct-fired process unit” was only needed in appendix B to subpart DDDD; however, since the proposed amendment to the “affected source” definition refers to direct firing, the definition of “direct-fired process unit” would be needed for subpart DDDD as well. Appendix B to subpart DDDD references all of the definitions in § 63.2292 of subpart DDDD.

Plywood and composite wood products manufacturing facility. Following promulgation of the PCWP rule, we have received questions regarding applicability of the final PCWP rule to facilities that manufacture molded particleboard products. The promulgated definition of “plywood and composite wood products manufacturing facility” has caused some confusion because it does not specifically mention molded particleboard manufacturing. Molded particleboard is produced by hot pressing a mixture of wood particles and resin into a shape (e.g., a pallet, furniture part, toilet seat, etc.) using a press mold uniquely designed for the product. The press molds used for molded particleboard products are designed very differently from the platen or continuous presses used to manufacture conventional particleboard panels. Prior to promulgation, we determined that MACT for particleboard press molds is no emission reduction, and, therefore, there are no requirements in the final PCWP rule for these press molds. However, molded particleboard facilities can operate dry rotary dryers or green rotary dryers identical to those operated by conventional particleboard plants. Rotary dryers at molded particleboard manufacturing facilities were included in the MACT determination for PCWP dry and green rotary dryers. The final PCWP rule contains work practice requirements for dry rotary dryers and control requirements for green rotary dryers. In order to ensure that MACT is applied as intended for these dryers, we are proposing to amend the definition of “plywood and composite wood products manufacturing facility” to include molded particleboard manufacturing. Note that only those molded particleboard manufacturers that are major sources of HAP emissions are potentially affected by this clarification to the definition of “plywood and composite wood products manufacturing facility.”

Several other applicability questions have been raised regarding the definition of “plywood and composite wood products manufacturing facility.” As promulgated, a “plywood and composite wood products manufacturing facility” is “a facility that manufactures plywood and/or composite wood products by bonding wood material (fibers, particles, strands, veneers, etc.) or agricultural fiber, generally with resin under heat and pressure, to form a structural panel or engineered wood product * * *.” We have received several questions about the applicability of the rule to products that are neither structural panels nor engineered wood products. Although some products that may not be considered structural panels or engineered wood products are listed at the end of the definition of “plywood and composite wood products manufacturing facility” (e.g., kiln-dried lumber), other products that we intended to cover are not listed in this definition. The phrase “structural panel or engineered wood product” was never intended to be a basis of exclusion from the source category; instead, it was intended to summarize the majority of products made at PCWP manufacturing facilities. Certain products that typically would not be considered either structural panels or engineered wood products were included in the MACT floor analysis and are subject to the promulgated rule. We propose to clarify our intent by amending the first sentence of the definition of “plywood and composite wood products manufacturing facility” to cover a wider variety of products.

Plywood. We also received questions regarding applicability of the PCWP final rule to operations where veneer is glued (with heat and pressure) to form a curved wood component or onto a curved wood component rather than a flat panel. The promulgated definition of “plywood” is “ * * * a panel product consisting of layers of wood veneers hot pressed together with resin. Plywood includes panel products made by hot pressing (with resin) veneers to a substrate such as particleboard, medium density fiberboard, or lumber.” We did not define “panel product” in the final rule; however, we intended for the term to be interpreted broadly. We consider a product manufactured by hot-pressing veneers together or onto a substrate with resin to be plywood, regardless of the curvature of the end product. We propose to amend the definition of “plywood” to clarify our intent. There are no control requirements or work practice requirements for plywood pressing operations in the final PCWP rule. Therefore, facilities manufacturing products that meet the definition of “plywood” in the final rule (but have no other operations subject to the control, work practice, or operating requirements in the final PCWP rule) need only to submit an initial notification stating that they have no equipment subject to the rule (as discussed in the next section of this preamble).

Molded particleboard. To supplement our proposed addition of molded particleboard manufacturing to the definition of “plywood and composite wood products manufacturing facility,” we are also proposing to add a definition of “molded particleboard” to subpart DDDD of 40 CFR part 63.

Engineered wood products. Following promulgation of the PCWP rule, we received several applicability questions regarding engineered wood products. To assist stakeholders in determining what products we consider to be engineered wood products, we are proposing to add a definition of “engineered wood product” to subpart DDDD of 40 CFR part 63.

3. Affected Sources With No Process Units Subject to the Compliance Options or Work Practice Requirements

Following promulgation, we received several questions regarding applicability of general recordkeeping and reporting requirements for affected sources with no equipment subject to specific requirements in the final rule. To clarify our intent in the final rule, we are proposing to add to subpart DDDD of 40 CFR part 63 a new section 63.2252, entitled “What are the requirements for process units that have no control or work practice requirements?” The proposed section states that you are not required to comply with the compliance options, work practice requirements, performance testing, monitoring, SSM plans, and recordkeeping or reporting requirements of this subpart, or any other requirements in subpart A of this part, except for the initial notification requirements in § 63.9(b), for process units not subject to the compliance options or work practice requirements specified in § 63.2240. Thus, affected sources without process units subject to the compliance options or work practice requirements (for example, lumber kilns, glue-laminated beams, or wood I-joists) would not be subject to the performance testing requirements, monitoring requirements, SSM plan requirements, and recordkeeping or reporting requirements of subpart DDDD, or any other requirements in subpart A of 40 CFR part 63. The proposed amendment is appropriate because no reports other than the initial notification would apply to these process units. The SSM plan is not necessary or required for process units not subject to specific requirements of the final rule because § 63.6(e)(3) of subpart A of this part requires an affected source to develop an SSM plan for process units subject to and control equipment used to comply with the relevant standard. The final PCWP rule was not intended to require anything other than the initial notification for process units not subject to the compliance options or work practice requirements.

4. Incorporation by Reference of NCASI Test Methods

With today's action, we are proposing to amend 40 CFR 63.14 by revising paragraph (f) to incorporate by reference one test method developed by the NCASI, pending review by EPA: Method ISS/FP-A105.01, Impinger Source Sampling Method for Selected Aldehydes, Ketones, and Polar Compounds. The method is available from the NCASI, Methods Manual, P.O. Box 133318, Research Triangle Park, NC 27709-3318 or at http://www.ncasi.org. It is also available from the docket for the proposed amendments (Docket ID No. OAR-2003-0048).

The NCASI Method ISS/FP-A105.01 was developed as an additional test method for measuring total HAP that may be used for high-moisture sources. The NCASI Method ISS/FP-A105.01 is not appropriate for measurement of benzene. In today's proposed amendments, NCASI Method ISS/FP-A105.01, which is a self-validating method, would be allowed, pending our review, as an alternative to:

• EPA Method 320, Measurement of Vapor Phase Organic and Inorganic Emission by Extractive FTIR, for measuring methanol, formaldehyde, acetaldehyde, acrolein, phenol or total HAP;

• EPA Method 0011, Sampling for Selected Aldehyde and Ketone Emissions from Stationary Sources, for measuring formaldehyde;

• EPA Method 316, Sampling and Analysis for Formaldehyde Emissions from Stationary Sources in the Mineral Wool and Wool Fiberglass Industries, for measuring formaldehyde;

• EPA Method 308, Procedure for Determination of Methanol Emission from Stationary Sources, for measuring methanol;

• NCASI Method CI/WP-98.01, Chilled Impinger Method for Use at Wood Products Mills to Measure Formaldehyde, Methanol, and Phenol, for measuring formaldehyde or methanol; and

• NCASI Method IM/CAN/WP-99.02, Impinger/Canister Source Sampling Method for Selected HAPs at Wood Products Facilities, for measuring methanol, formaldehyde, acetaldehyde, acrolein, phenol or total HAP.

B. Amendments to Appendix B to Subpart DDDD of 40 CFR Part 63

1. Addition of Emissions Estimation Procedures

Appendix B to subpart DDDD provides the methodology and criteria for demonstrating that your affected source is part of the low-risk subcategory of PCWP manufacturing facilities. As promulgated, appendix B to subpart DDDD requires emissions testing of all PCWP process units for up to 13 HAP. Table 2 of this preamble summarizes the process units that must be tested for each HAP and the emissions test methods specified in appendix B to subpart DDDD, as promulgated, for each HAP.

Table 2.—Emissions Test Methods Specified in Appendix B to Subpart DDDD, as Promulgated
HAP | Process units | Specified test method(s)
Acetaldehyde, acrolein, formaldehyde, phenol | All process units | NCASI IM/CAN/WP-99.02 or EPA Method 320 or ASTM D6348-03.
Benzene | All process units | EPA Method 320 or ASTM D6348-03.
Methylene diphenyl diisocyanate (MDI) | Presses that process board containing MDI resin | EPA Method 320 or Conditional Test Method 031.
Arsenic, beryllium, cadmium, chromium, lead, nickel, manganese | Direct-fired process units | EPA Method 29.
Notes: EPA Method 320 is located in 40 CFR part 63, appendix A. EPA Method 29 is located in 40 CFR part 60, appendix A. The NCASI IM/CAN/WP-99.02 and ASTM D6348-03 were incorporated by reference (see 40 CFR 63.14) and Conditional Test Method 031 is posted at http://www.epa.gov/ttn/emc/ctm.html.

Following promulgation, stakeholders commented that emissions testing is not feasible or necessary for every process unit. The stakeholders claimed that many PCWP process units are not configured for emissions testing and that testing of every type of PCWP process unit (especially those with insignificant emissions) is not necessary to ensure an accurate assessment of risk. In addition, the stakeholders stated that requiring emissions testing for acrolein and benzene from all PCWP process units is not justified by the available data, which show that emissions of acrolein and benzene are frequently not detected in the exhausts from many types of PCWP process units. The stakeholders also requested that HAP metals emissions testing be limited to those direct-fired process units that fire fuels other than natural gas and that fuel analysis be allowed as an alternative to HAP metals emissions testing.

Selection of Process Units to be Included in Low-risk Demonstration. EPA has determined that every process unit with potentially significant emissions, including very small emission sources, must be included in the low-risk demonstration because the low-risk demonstration is based on the cumulative risk from the process units within the PWCP affected source. Generally, this means that EPA has included all process units with any detectable emissions. However, we wanted to determine if costs could be lowered without affecting the quality of the emission estimates. So, we explored the feasibility of testing each type of PCWP process unit and available emissions estimation methods. We must ensure an accurate emissions determination for the affected source, given that the purpose of the low-risk demonstration is to certify that a PCWP affected source poses a risk to human health and the environment less than the low-risk criteria specified in appendix B to subpart DDDD ² and is eligible to become exempt from MACT compliance requirements. Therefore, for purposes of the low-risk demonstration, we prefer to have emissions test data over emissions estimates when emissions test data can be reasonably obtained.

² To be considered low risk, the PCWP affected source must meet the following criteria: (1) The maximum off-site individual lifetime cancer risk at a location where people live is less than one in one million for carcinogenic chronic inhalation effects; (2) every maximum off-site target-organ specific hazard index (TOSHI) (or, alternatively, an appropriately site-specific set of hazard indices based on similar or complementary mechanisms of action that are reasonably likely to be additive at low dose or dose-response data for your affected source's HAP mixture) at a location where people live is less than or equal to 1.0 for noncarcinogenic chronic inhalation effects; and (3) the maximum off-site acute hazard quotients for acrolein and formaldehyde are less than or equal to 1.0 for noncarcinogenic acute inhalation effects.

We believe that it is feasible to perform emissions testing for the following types of PCWP process units: Fiberboard mat dryers (heated and cooling zones), green rotary dryers, hardboard ovens, press predryers, pressurized refiners, primary tube dryers, secondary tube dryers, reconstituted wood product board coolers, reconstituted wood product presses, softwood veneer dryers (heated zones), rotary strand dryers, conveyor strand dryers (all zones), dry rotary dryers, veneer redryers (heated by conventional means), hardwood veneer dryers (heated zones), rotary agricultural fiber dryers, agricultural fiber board presses, paddle-type particle dryers, agricultural fiberboard mat dryers, and atmospheric refiners. Therefore, emissions testing would continue to be required for all of the above listed process units. Most of the process units listed above have control or work practice requirements under subpart DDDD.

We believe that emissions testing is not feasible for the following types of process units: Fiberboard mat dryers (fugitive emissions), softwood veneer dryer (cooling zones and fugitive emissions), hardwood veneer dryers (cooling zones), radio-frequency veneer redryers, softwood plywood presses, hardwood plywood presses, engineered wood products presses, humidifiers, formers, blenders, sanders, saws, fiber washers, chippers, log vats, lumber kilns, storage tanks, wastewater operations, stand-alone digesters, veneer kilns, particleboard press molds, and particleboard extruders. Some of these process units are vented primarily for dust control and reclaim of process materials, and their venting systems are not designed for flow measurement or measurement of organic gases. Some of the process units are not vented (i.e., are fugitive emissions sources) or are only partially vented. The configuration of these process units, in terms of how and if they vent to the atmosphere, varies significantly from plant to plant. Often, the emission points from these process units (where defined emission points exist) are not configured such that EPA Method 1 or EPA Method 2 (40 CFR part 60, appendix A) criteria for selection of sampling ports and measurement of gas velocity could be met. Emissions data are available from an extensive emissions testing program where testable units in several of the process unit groups were identified. These emissions data (along with other available data collected during NESHAP development) have been used to develop emission factors. Almost all of the test data were reviewed by industry experts. All the data, except the lumber kiln data, were reviewed by EPA, were available for the public to review at proposal, and were available for public review during EPA's AP-42 review process. (See legacy docket A-98-44, items titled “Emission Factor Documentation for AP-42 Section 10.5, Plywood Manufacturing,” “Emission Factor Documentation for AP-42 Section 10.6.3,” “Medium Density Fiberboard Manufacturing,” “Emission Factor Documentation for AP-42 Section 10.6.2,” “Particleboard Manufacturing,” “Emission Factor Documentation for AP-42 Section 10.6.1,” “Waferboard/Oriented Strandboard Manufacturing,” and “Documentation of Emission Factor Development for the Plywood and Composite Wood Products Manufacturing NESHAP.”) In addition, the lumber kiln data are now available in “Procedures for Determining Emissions from Plywood and Composite Wood Products Process Units for Low-Risk Demonstrations.” Therefore, as discussed later in this section, we are proposing to allow that emission factors be used to estimate emissions from the hard-to-test process units for purposes of the PCWP low-risk demonstrations. Other emissions estimation methods (e.g., engineering estimates) are proposed to be allowed for hard-to-test process units for which no emission factors are available.

Based on the available data, three types of process units (miscellaneous coating operations, softwood veneer dryer fugitive emissions, and log chipping operations) are hard to test but do not emit any of the HAP listed in appendix B to subpart DDDD. Thus, miscellaneous coating operations, softwood veneer dryer fugitive emissions, and log chipping operations would not need to be considered in the low-risk demonstration, under the proposed amendments.

There may be additional ancillary PCWP process units for which no HAP data are available (e.g., log storage piles and material handling operations). Such processes are likely to be hard to test. No information is available to conclude that there are appendix B to 40 CFR part 63 HAP emissions from other PCWP processes not mentioned elsewhere in today's proposed amendments. Nevertheless, in the event that there may be an additional HAP emissions source within the PCWP affected source that is not listed elsewhere in appendix B to subpart DDDD, a category of “other ancillary processes that emit appendix B HAP emissions” is proposed to be added to appendix B to subpart DDDD, and engineering estimates for all of the appendix B HAP would be allowed for such processes. We request comment (and emissions data, if available) regarding any PCWP emissions sources not listed in appendix B to subpart DDDD that are known to emit appendix B HAP emissions. It is not our intent to require quantification of emissions for ancillary processes that do not emit appendix B HAP. Our intent with the category of “other ancillary processes that emit appendix B HAP emissions” is to capture unique equipment (e.g., a one-of-a-kind dryer) that could reasonably be expected to emit appendix B HAP, but is not otherwise covered in the process unit definitions provided in subpart DDDD of 40 CFR part 63 and appendix B to subpart DDDD. Therefore, we request comment on whether it would be appropriate to include a list of “insignificant activities” for purposes of appendix B to subpart DDDD. We also request comment on what activities should be included in such a list. Commenters may want to refer to a list of proposed insignificant activities in the docket which was submitted by AF&PA, titled “Proposed Categorical Insignificant Sources.”

To incorporate emissions estimation procedures, our proposed amendment to appendix B to subpart DDDD would add a table (table 2A to appendix B to subpart DDDD) that states for each process unit whether emissions testing is required or emissions estimation is allowed for each of the appendix B HAP. If emissions estimates are allowed, then the proposed table 2A to appendix B to subpart DDDD would specify the emission factor (or other emissions estimation technique) to be used in developing the emissions estimates. Related text is proposed to be added to sections 5(a) and 5(k) of appendix B to subpart DDDD. Section 6(a) of appendix B to subpart DDDD is also being amended to clarify that it applies when emissions estimation or testing is performed. We are proposing to add definitions of process units not already defined in subpart DDDD to section 15 of appendix B to subpart DDDD. In addition, we are proposing to add text to section 8(a)(3) of appendix B to subpart DDDD to specify that emissions estimate calculations must be submitted with the low-risk demonstration.

Selection of Emissions Estimation Procedures. As mentioned previously, emission factors could be used under the proposed amendments to estimate emissions from most of the hard-to-test process units. To streamline completion and review of the low-risk demonstrations, our proposed amendment to appendix B to subpart DDDD specifies emission factors that are to be used in low-risk demonstrations. We are not proposing to allow facilities to choose their own emission factors (from AP-42 or elsewhere) because we believe we have the most extensive collection of PCWP HAP emissions data available and because additional time would be required for EPA to verify the emission factors selected for each process unit. The emission factors proposed to be included in appendix B to subpart DDDD are the maximum emission factors available for each type of process unit (i.e., the emission factor resulting from the highest emissions test). Use of the maximum emission factor builds conservatism into the emissions estimates to help account for unit-to-unit variability and ensures protection of human health. In addition, the maximum emission factor is available for all process units for which we have sufficient data. While we believe the maximum emission factor is the best statistical approach as explained above, we request comment on using other statistical approaches. Facilities approaching the limits of the low-risk criteria may refine their analysis of HAP emitted by reconfiguring their process unit, if possible, and conducting emissions testing.

Estimation of emissions would be allowed for acetaldehyde, acrolein, formaldehyde, phenol, and benzene. In addition, estimation of methylene diphenyl diisocyanate (MDI) emissions would be allowed for process units processing material containing MDI resin. Except for lumber kilns, estimation of HAP metals emissions is not necessary because the hard-to-test process units are heated by means other than direct firing (if heated at all). In some cases, a particular HAP listed on appendix B to subpart DDD was not detected in any emissions test run conducted for a process unit type. We are proposing that no emissions estimate be developed for HAP that have not been detected from a process unit group because the available emission factors are based on values equal to one-half of the method detection limit (MDL) and are of limited use. Engineering estimates are proposed in some cases where all of the data are non-detect but the available data sets are small, and it is reasonable to believe that a particular HAP could be emitted. In some cases, no applicable emission factor is available for certain HAP and process unit combinations where we expect the HAP could be detected (e.g., phenol from oriented strandboard (OSB) blenders and MDI from MDI blenders). We are proposing to accept engineering estimates based on information available to the facility in cases where no applicable emission factor is available for a HAP that may reasonably be expected to be emitted from a certain type of process unit.

Our data base of emission factors does not include emission factors for lumber kilns. It is difficult to measure emissions from lumber kilns due to kiln air flow design, fugitive emissions, and the lengthy kiln batch cycle (e.g., 24 hours for softwood kilns, days for hardwood kilns). Therefore, little emissions test data are available for use in developing HAP emission factors for lumber kilns. Methods for quantifying lumber kiln flow rates vary from test to test. Most of the emissions test data that are available (generally total hydrocarbon (THC) data) contain calculated flow rates or other assumptions that bring the validity of the data into question. A few tests have been conducted on both small- and full-scale lumber kilns to determine emissions of HAP (generally formaldehyde and methanol). We reviewed available information on lumber kiln emissions and selected the maximum emission factors of HAP listed in appendix B to subpart DDDD from the literature. Today, we are proposing these emission factors for purposes of estimating lumber kiln emissions for the low-risk demonstration. Engineering estimates of HAP metals emissions are proposed for direct-fired lumber kilns. While emissions testing of full-scale lumber kilns has proven to be very difficult, studies have shown that testing of small-scale lumber kilns can be used to reasonably approximate emissions from full-scale lumber kilns if representative lumber samples are dried and the venting characteristics of the small-scale kiln mimic those of the full-scale kiln. Several U.S. universities and private laboratories operate small-scale kilns. To approximate emissions from full-scale kilns, a representative sample of lumber is taken from the full-scale kiln facility, packaged to prevent moisture loss, and shipped to the location of the small-scale kiln where the full-scale kiln's drying cycle (e.g., time and temperatures) is mirrored during emissions testing. Small-scale kilns are designed for more accurate air flow measurement and are less costly to test. In addition to proposing emission factor estimates based on the available information, we request comment on whether it would be appropriate to allow facilities to commission emissions testing at a representative small-scale lumber kiln for purposes of the low-risk demonstration. We also request comment on any standard procedures for submitting lumber samples and conducting small-scale kiln emissions testing that should be incorporated into or referenced by appendix B to subpart DDDD. When submitting comments on standard procedures, please refer to a document in the docket entitled “Considerations for a Small-scale Kiln Emission Testing Program.”

Emission factors are not available for PCWP resin storage tanks and PCWP wastewater/process water operations. For resin storage tanks, we are proposing to specify in appendix B to subpart DDDD that facilities may apply the maximum emissions estimates reported in our MACT survey responses for each tank (depending on the tank contents). We are proposing to specify that facilities generate engineering estimates of appendix B HAP emissions from wastewater/process water operations. Alternatively, we have developed computer models for estimating emissions from storage tanks (TANKS) and wastewater/process water operations (WATER9). Both models are available at http://www.epa.gov/ttn/chief/software/index.html. The proposed amendments to appendix B to subpart DDDD allow facilities to use these models to develop more refined estimates of emissions from resin storage tanks and wastewater/process water operations. We also request comment on other methods that could be used in appendix B to subpart DDDD to quantify emissions from wastewater/process water operations, such as the approach outlined in forms VII and VIII of appendix C to 40 CFR part 63 and described further with respect to the PCWP industry in the supporting information for today's proposed amendments.

Application of Emissions Estimation Procedures. To apply emission factors, facilities would need the emission factor (in terms of pounds of HAP per process unit throughput) supplied in appendix B to subpart DDDD and their site-specific process unit throughput. None of the hard-to-test process units are equipped with HAP control devices; therefore, control efficiency is not a variable in the emission factor estimates for low-risk demonstrations. Facilities may also use process unit throughput or other parameters in their engineering estimates allowed where emission factors were not available.

Process unit throughput could be based on process unit capacity or actual throughput. Section 11 of appendix B to subpart DDDD requires facilities to incorporate parameters that define the affected source as part of the low-risk subcategory (including production rate) as federally enforceable limits in their title V permits. Furthermore, according to section 13(a) of appendix B to subpart DDDD, facilities must certify with their ongoing title V certifications that the basis for their low-risk demonstrations have not changed (including any process changes that would increase HAP emissions, such as a production rate increase). Given these requirements, we are proposing to allow facilities to use the process unit throughput that they wish to incorporate into their title V permit in their emissions estimates for the low-risk demonstration. We decided not to mandate use of process unit capacity for the emissions estimations in order to give facilities the flexibility to choose a federally enforceable permit limit on their production rate should they wish to minimize emissions by limiting production.

Some PCWP process units have multiple emissions points of varying height. For purposes of the low-risk demonstration, it is necessary to have an emission rate and emissions release parameters (e.g., stack height) associated with each emission point. Thus, we are proposing that emissions estimates developed for process units with multiple emission points be divided evenly across the emission points. For example, emissions estimated for a softwood plywood press with four vents would be divided by four, with one-fourth of the estimated emissions being assigned to each press vent. We are also proposing minor changes to the wording throughout appendix B to subpart DDDD to clarify that individual emission points are to be considered separately.

Acrolein and Benzene Testing Requirements. As promulgated, appendix B to subpart DDDD allows a process unit to be excluded from the testing requirements for benzene and acrolein for purposes of the low-risk demonstration when EPA determines it will not emit detectable amounts of benzene or acrolein, respectively (see footnote 1 to table 2 to appendix B to subpart DDDD, as promulgated). We evaluated the available acrolein and benzene data for those process units that must be tested for purposes of the low-risk demonstration (i.e., process units for which emissions estimation is not allowed). The results of our review are included in proposed table 2a to appendix B to subpart DDDD. Because our review is complete and the results available, we are proposing to delete footnote 1 to table 2 to appendix B to subpart DDDD.

Determining MDI Emissions. At promulgation, appendix B to subpart DDDD specified that MDI emissions testing need only be conducted for presses processing board containing MDI resin. To date, the only MDI emissions data available is for presses processing board formed using MDI resin. However, upon further consideration of the potential for MDI emissions, we note that there may be other, less common process units processing materials containing MDI resin. Table 2A, proposed to be added to appendix B to subpart DDDD, specifies that emissions testing must be performed for primary and secondary tube dryers, reconstituted wood products presses and board coolers, and agricultural fiber presses if material containing MDI resin is processed. We are proposing to require engineering estimates of MDI emissions for OSB, particleboard, and medium density fiberboard (MDF) blending and forming operations, finishing sanders and saws, and I-joist curing chambers that process material containing MDI resin. We are also proposing to require estimates of MDI emissions from MDI resin storage tanks.

2. Emission Testing Requirements

Stakeholders noted the resource burden associated with the emissions testing requirements in appendix B to subpart DDDD and suggested several ways the burden may be reduced without sacrificing details necessary to ensure that the low-risk demonstration is health-protective. As a result of some of these suggestions, and in addition to our proposal to allow emissions estimation procedures for several process units (discussed previously in this preamble), we are proposing to amend some aspects of the emissions testing requirements in appendix B to subpart DDDD.

First, stakeholders suggested that only one of multiple identical dryers at a facility would need to be tested (e.g., only one of three identical veneer dryers) and that the emissions data from the dryer tested could be applied to the other identical dryers. This change would decrease the number of emissions tests required without significantly affecting the quality of the emissions determination. After reviewing emissions data gathered at nearly the same time from multiple similar PCWP process units at a plant site, we agree that this approach would be sufficient for purposes of the PCWP low-risk demonstration. We are proposing to amend appendix B to subpart DDDD to allow application of test results from one process unit to other similar process units at the same plant site, provided that certain conditions are met. Facilities would be required to explain how the process units are similar in terms of design, function, heating method, raw materials processed, residence time, change in material moisture content, operating temperature, resin type processed, and any other parameters that may affect emissions. To account for minor variations in process parameters, facilities would be required to explain and test the process unit that would be expected to have the greatest emissions (e.g., the unit with a slightly (5 to 10 percent) higher temperature set point, dryer processing furnish with slightly higher inlet moisture content, press processing thicker panels, process unit with the greater throughput, etc.). Also, if the process units have different throughput rates, then facilities must convert the emissions test results to terms of pounds of HAP per unit throughput prior to applying the emissions test data to other similar process units.

Second, stakeholders requested that we allow HAP data collected from previous emissions tests to be used for purposes of the low-risk demonstration. Allowing use of previous emissions test results would decrease the number of emissions tests required without significantly affecting the quality of the emissions determination. Thus, we are proposing to amend appendix B to subpart DDDD to allow use of previous emissions test results, provided that certain conditions are met. The emissions tests must have been conducted using the test methods and procedures specified in appendix B to subpart DDDD. Previous emissions test results obtained using the former NCASI Method IM/CAN/WP-99.01 are acceptable. Also, the process units for which previous emissions test data are used currently must be operated in the same manner (e.g., with the same raw materials, same operating temperature, etc.) as during the previous emissions tests, and the process units may not have been modified such that emissions would be expected to differ (notwithstanding normal test-to-test variability) from the previous emissions tests.

Third, stakeholders requested that NCASI Method IM/CAN/WP-99.02 be listed in appendix B to subpart DDDD for measurement of benzene as well as for measurement of acetaldehyde, acrolein, formaldehyde, and phenol. Following proposal of the PCWP rule, commenters requested that we replace references to NCASI Method IM/CAN/WP-99.01 in subpart DDDD of 40 CFR part 63 (for measurement of acetaldehyde, acrolein, formaldehyde, methanol, phenol, and propionaldehyde) with the revised version of the same method (NCASI Method IM/CAN/WP-99.02). We reviewed NCASI Method IM/CAN/WP-99.02 for applicability with respect to the six HAP named in subpart DDDD and concluded that NCASI Method IM/CAN/WP-99.02 was appropriate for measurement of these six HAP. Prior to promulgation, we did not review NCASI Method IM/CAN/WP-99.02 with respect to benzene, and, therefore, we did not list it in appendix B to subpart DDDD as an applicable method for measurement of benzene. Upon further review of the method, we agree that it is appropriate for measurement of benzene, and we are proposing to amend appendix B to subpart DDDD to allow use of NCASI Method IM/CAN/WP-99.02 for benzene measurement. Stakeholders also requested that EPA Method 18 (40 CFR part 60, appendix A) be included in appendix B to subpart DDDD for benzene measurement, and they expressed concern about using Fourier Transform Infrared (FTIR) spectroscopy for benzene. We agree that EPA Method 18 is appropriate for measurement of benzene. We are proposing to add Method 18 to appendix B to subpart DDDD. We request comment on the applicability of FTIR for measurement of benzene and the other HAP listed in appendix B to subpart DDDD. In addition, as stated previously, we are proposing to incorporate by reference NCASI Method ISS/FP-A105.01 (following EPA approval of the method) into appendix B to subpart DDDD to provide another option for measurement of acetaldehyde, acrolein, formaldehyde, and phenol.

Fourth, stakeholders recommended changes to appendix B to subpart DDDD regarding treatment of nondetect data gathered using EPA Method 29 (40 CFR part 60, appendix A). As promulgated, appendix B to subpart DDDD allows Method 29 nondetect measurements to be treated as zero if the samples are analyzed using atomic absorption spectroscopy (AAS). Otherwise, nondetect data for individual HAP must be treated as one-half of the method detection limit. Stakeholders pointed out that laboratory methods other than AAS can achieve method detection limits equal to or lower than those obtained with AAS and requested that zero be assigned to non-detect measurements analyzed by these other laboratory methods. Thus, we are proposing to amend appendix B to subpart DDDD to state that zero may be used for Method 29 non-detect measurements if the samples are analyzed using AAS or another laboratory method specified in Method 29 with detection limits lower than or equal to the AAS detection limits.

Lastly, stakeholders stated that HAP metals emissions testing is not necessary for direct-fired process units using only natural gas. The vast majority of PCWP direct-fired process units are fired with either wood or natural gas. A small number of PCWP direct-fired process units are fired with other fuels. Natural gas, or less commonly, propane, is often used as a backup or auxiliary fuel. Although we believe it is possible that HAP metals emissions could originate from combustion in direct wood-fired process units, we agree that measurable emissions of HAP metals would not be expected from natural gas-fired process units. We also would not expect measurable HAP metals emissions from process units direct-fired with propane. Therefore, we are proposing to amend appendix B to subpart DDDD to exclude process units direct-fired with only natural gas or propane from the HAP metals testing requirements. We would continue to require HAP metals testing for process units direct-fired using wood, other fuels, or a combination of natural gas (or propane) and wood or other fuels. For clarity, we are also proposing to add definitions of “natural gas” and “propane” to appendix B to subpart DDDD.

Stakeholders further suggested that we allow a fuel analysis approach similar to that in the Boilers/Process Heaters final rule (40 CFR part 63, subpart DDDDD) as an alternative to HAP metals testing. The fuel analysis method described in the Boilers/Process Heaters final rule allows affected sources to demonstrate compliance with the total selected metals (TSM) emissions limit using fuel analysis if the 90th percentile confidence level of metals concentration in the fuel is less than the emissions limit (see 69 FR 55218, September 13, 2004). The specific requirements for conducting a fuel analysis are presented in sections 63.7521 and 63.7530(d)(1), (2), and (4) of the Boilers/Process Heaters final rule. We request comment on the appropriateness of providing a fuel analysis alternative to HAP metals testing for direct-fired process units that use fuels other than natural gas and propane.

3. Calculation of Average Stack Height

The look-up table analysis described in appendix B to subpart DDDD relies on calculation of average stack height. There are some near-ground-level emission points at PCWP facilities. The near-ground-level emission points generally contain small amounts of HAP as compared to higher-level emission points. Stakeholders have expressed concern that inclusion of numerous near-ground-level emission points in the average stack height calculation would unreasonably lower the average stack height to be used in the look-up tables. As a result, we are proposing to amend appendix B to subpart DDDD to incorporate weighted-average stack height calculations for use in the carcinogen and non-carcinogen look-up tables. We are proposing to add two equations to section 6(a) of appendix B to subpart DDDD. The weighted-average stack heights would be based on the toxicity-weighted carcinogen emission rate (TWCER) and toxicity-weighted non-carcinogen emission rate (TWNER). Separate weighted-average stack heights, the carcinogen weighted-average stack height (WAHC) and non-carcinogen weighted-average stack height (WAHN), would be developed for use in the carcinogen and non-carcinogen look-up tables, respectively. The weighted-average stack height would be minimally affected by emission points with toxicity-weighted emission rates that are low relative to the total toxicity-weighted emission rate at the source. The weighted-average stack height will usually be higher than the stack height calculated using a straight average (as promulgated), except in unlikely cases where the higher-emitting sources are closer to the ground than the lower-emitting sources. If the higher-emitting sources are closer to the ground, then the weighted-average stack height will be lower (i.e., more conservative) than a straight average (as promulgated). We believe that use of a weighted-average stack height calculation will result in a more accurate picture of the potential risk from an affected source than a straight average.

4. Permit and Timing Issues

Date for New Sources To Submit Low-risk Demonstrations. Section 10(c) of appendix B to subpart DDDD requires new or reconstructed affected sources to conduct emissions tests upon initial startup and to use the results of these emissions tests to complete and submit the low-risk demonstration within 180 days following the initial startup date. While this schedule is appropriate for new or reconstructed sources starting up after the effective date, it is not feasible for new or reconstructed sources starting up prior to the effective date because these sources could not have known what the testing requirements were for the low-risk demonstration. Therefore, we are proposing to amend section 10(c) to state that new or reconstructed sources must conduct emissions tests by the effective date or upon initial startup, whichever is later. We are also proposing to amend section 10(c) to state that new or reconstructed sources must submit their low-risk demonstration within 180 days following the effective date or initial startup date, whichever is later.

Date for Existing Sources To Submit Low-risk Demonstrations. Section 10(a) of appendix B to subpart DDDD requires existing sources to complete and submit their low-risk demonstrations no later than July 31, 2006. We are proposing to change the submittal date to April 1, 2007.

We understand that proposing to extend the deadline for sources to submit low-risk demonstrations may have implications for other deadlines under the PCWP rule. For example, in cases where we disapprove a source's timely-submitted demonstration, a source may have little remaining time to install any controls needed to comply with MACT. Therefore, we seek comment on whether to extend the MACT compliance date by some period of time such as six months to one year for sources whose low-risk demonstrations we disapprove or for all PCWP sources.

Timing of Title V Permit Revisions. To become part of the low-risk subcategory, section 11 of appendix B to subpart DDDD requires facilities to obtain: (1) EPA approval of their low-risk demonstrations, and (2) title V permit revisions including terms and conditions reflecting the parameters used in their approved demonstrations, according to the schedules in their applicable 40 CFR part 70 or 40 CFR part 71 title V permit programs. Unless and until EPA finds that these criteria are met, a facility is subject to the applicable compliance options, operating requirements, and work practice requirements in 40 CFR part 63, subpart DDDD. Thus, low-risk facilities wishing to avoid MACT applicability must meet the criteria for becoming part of the low-risk subcategory before the MACT compliance date. There has been some confusion and concern regarding the timing of the required title V permit revisions. Stakeholders expressed concern that some permitting authorities may be unable to approve title V permit revisions before the MACT compliance date. According to appendix B to subpart DDDD, as promulgated, low-risk demonstrations for existing sources are due to EPA 14 months prior to the MACT compliance date. Facilities would apply for permit revisions following EPA approval of their low-risk demonstration, leaving a year or less for permitting authorities to approve the permit revision.

In the final appendix B to subpart DDDD (section 11(b)), we included the statement “You must submit an application for a significant permit modification to reopen your title V permit to incorporate such terms and conditions according to the procedures and schedules of 40 CFR part 71 or the EPA-approved program in effect under 40 CFR part 70, as applicable.” With this language, we intended to consider an application for permit revision submitted prior to the MACT compliance date sufficient for meeting the requirement applicable to the source to initiate action to revise the title V permit to incorporate the parameters that rendered the facility part of the low-risk subcategory. To clarify that it is sufficient to have submitted an application for a permit revision, we are proposing to amend section 11(b) of appendix B to subpart DDDD to state that the parameters that define your affected source as part of the low-risk subcategory must be submitted for incorporation as federally enforceable terms and conditions into your title V permit. We are also retaining the sentence quoted above from section 11(b) of appendix B to subpart DDDD.

5. Using Preliminary Data in the Low-Risk Demonstration

Industry stakeholders requested that EPA allow facilities to submit low-risk demonstrations based on proposed physical changes to emission points. A facility would not be required to install controls, make stack modifications, or make other modifications prior to approval of the low-risk demonstration. All changes would have to be completed for the facility to become part of the low-risk subcategory. In addition, we would require facilities to verify that emissions do not exceed the emission factor calculations presented in the low-risk demonstration by conducting emissions tests. The facility would then submit documentation to EPA that the physical changes and emissions tests were completed. Allowing facilities to complete physical changes after getting approval of the low-risk demonstration would not diminish the accuracy of the risk assessment. However, it will provide facilities some assurance that their low-risk demonstration will be approved before they embark on costly equipment reconfiguration, and it will allow more time to make the changes. We request comment on this approach.

The industry stakeholders also requested that for emission points that require emissions testing, facilities have the option of using emission factors in their low-risk demonstrations, pending subsequent verification. The facility could choose to submit their low-risk demonstration earlier than required and receive feedback on its approvability from EPA before conducting emissions tests. The facility would then verify the results of the low-risk demonstration by performing emissions tests and submitting them to EPA for review and approval no later than the date low-risk submittals are due and prior to becoming part of the low-risk subcategory. Allowing the use of emission factors in the low-risk demonstrations would allow facilities the opportunity to use the alternatives to emissions testing included in today's proposed amendments; save facilities the cost of emissions testing should their risk assessment not be approved by EPA; and allow facilities more time to complete emissions testing. If the emissions tests do not support the low-risk demonstration, the facility cannot become part of the low-risk subcategory. We request comment on this approach.

C. Other Amendments to the Rule

In addition to the proposed changes to address issues raised by stakeholders, we are proposing other changes to clarify requirements and correct errors.

1. Unscheduled Startups and Shutdowns

Section 63.2250(a) of subpart DDDD, as promulgated, stated that “* * * The compliance options, operating requirements, and work practice requirements do not apply during times when the process unit(s) subject to the compliance options, operating requirements, and work practice requirements are not operating, or during scheduled startup and shutdown periods, and during malfunctions. These startup and shutdown periods must not exceed the minimum amount of time necessary for these events.” This language has resulted in confusion about applicability of the rule requirements during unscheduled startup and shutdown periods. Unscheduled startups and shutdowns resulting from malfunction events were always intended to be allowed as part of the startup, shutdown, and malfunction plan (SSM plan) (see discussions in 2.8.3.2 and 2.8.3.5 of the “National Emission Standards for Hazardous Air Pollutants for Plywood and Composite Wood Products Manufacturing—Background Information for Final Standards”). With this proposed amendment, we are clarifying our intent that the rule requirements do not apply during unscheduled startups and shutdowns covered under the SSM plan. We are proposing to amend the language in § 63.2250(a) accordingly.

2. Numbering in Appendix A to Subpart DDDD

As promulgated, section 10 of appendix A to subpart DDDD (the tracer gas method for measuring capture efficiency) contained two sections numbered 10.4. We are proposing to correct this error by renumbering the second section 10.5.

3. Website Address for “Air Toxics Risk Assessment Reference Library”

As promulgated, section 7(a) of appendix B to subpart DDDD stated that the “Air Toxics Risk Assessment Reference Library” was available from http://www.epa.gov/ttn/atw. However, the document is located at a different Web site: http://www.epa.gov/ttn/fera/risk_atra_main.html. We are proposing to correct the Web site address in section 7(a) of appendix B to subpart DDDD.

4. Lookup Table Units of Measure

As promulgated, tables 3 and 4 to appendix B of subpart DDDD (the lookup tables for carcinogenic and noncarcinogenic effects, respectively) contained footnotes stating the units of measure to which the values in the lookup tables were normalized. These footnotes have been a source of confusion and are not needed, given that the units are included in the table titles. Therefore, we are proposing to remove the footnotes relating to units of measure from tables 3 and 4 of appendix B to subpart DDDD.

5. Lookup Table Reference to “Property Boundary”

As promulgated, table 3 to appendix B to subpart DDDD referred to the “distance to nearest residence.” However, like table 4 to appendix B to subpart DDDD, table 3 should refer to the “distance to property boundary.” We are proposing to correct this error so that table 3 to appendix B to subpart DDDD also refers to “distance to property boundary.”

6. Numbering in Section 63.2269(c)

Section 63.2269(c), as promulgated, stated that for wood moisture monitoring, “you must meet the requirements in paragraphs (a)(1), (2), (4) and (5) and paragraphs (c)(1) through (4) of this section.” However, section 63.2269(a) has only three paragraphs. We are proposing to correct this error by amending section 63.2269(c) so that the paragraphs in section 63.2269(a) are referenced correctly and to include reference to section 63.2269(c)(5).

V. Additional Clarifications

A. Integrated Drying Systems Where Combustion Units That Heat the Dryers Are Used as Control Devices

There has been some confusion regarding applicability of the final PCWP and Boilers/Process Heaters rules to integrated drying systems where a combustion unit provides indirect heat to the dryers and also serves as the control device for the dryers. In these systems, exhaust from a large combustion unit is used to indirectly heat ambient air or generate steam (to be used as heat for the dryers) and to provide indirect heat for other operations (e.g., to generate steam or heat hot oil for the press). After these indirect heat exchanges, the exhaust from the combustion unit is emitted to the atmosphere through a particulate control device. The dryer exhaust is routed to the combustion unit for emissions control.

The final Boilers/Process Heaters rule states that any boiler or process heater specifically listed as an affected source in another standard under 40 CFR part 63 is not subject to the Boilers/Process Heaters rule (see section 63.7491(l)). The Boilers/Process Heaters rule does not exclude boilers and process heaters that are used as control devices unless they are specifically considered part of another NESHAP's definition of affected source. (See 69 FR 55230, September 13, 2004.) We received questions regarding whether combustion units in integrated drying systems (described previously in this section) are part of the PCWP affected source. The definition of “affected source” in the PCWP final rule does not mention combustion units used as control devices. As stated previously, there are combustion units that can be part of the PCWP affected source and also be Boilers/Process Heaters affected sources. Combustion units in integrated drying systems (as described in this section) are part of the Boilers/Process Heaters affected source because they meet the definition of “process heater” in the Boilers/Process Heaters final rule in that they “* * * transfer heat indirectly to a process material (liquid, gas, or solid) or to a heat transfer material for use in a process unit * * *”

B. Applicability of the PCWP Rule to Hot Pressing of Veneers Onto a Substrate

We received several questions regarding applicability of the PCWP final rule to operations where hardwood or softwood veneer is hot-pressed with resin onto a substrate (such as lumber, particleboard, MDF, etc.) to form a panel product. Such operations may be located at facilities that are major sources because they produce other products (e.g., furniture). The definition of “plywood” in the final PCWP rule is as follows: “Plywood means a panel product consisting of layers of wood veneers hot pressed together with resin. Plywood includes panel products made by hot pressing (with resin) veneers to a substrate such as particleboard, medium density fiberboard, or lumber.” Thus, the pressing operation described above is considered to be plywood manufacturing according to the definition of “plywood.” However, there are no control requirements or work practice requirements for plywood pressing operations in the final PCWP rule. Thus, facilities hot pressing products that meet the definition of plywood in the final rule (but have no other operations subject to the control, work practice, or operating requirements in the final PCWP rule) need only to submit an initial notification stating that they have no equipment subject to the rule (as discussed earlier in this preamble).

C. Applicability of the PCWP Rule to Lumber Kilns Drying Utility Poles

As discussed in the preamble to the final PCWP rule, (69 FR 45948 and 45962) the PCWP affected source includes lumber kilns located at any type of facility, regardless of whether the facility manufactures PCWP. We determined that MACT for lumber kilns is no emission reduction. Therefore, the only requirements in the PCWP final rule for major source facilities with no PCWP process units other than lumber kilns is to submit an initial notification.

Following promulgation of the PCWP rule, we received questions regarding applicability of subpart DDDD of 40 CFR part 63 to lumber kilns used to dry utility poles. We believe that there may be a number of facilities that dry utility poles in lumber kilns, that the operations are similar to other lumber kiln operations, and that they are part of the PCWP affected source. However, because drying of utility poles in lumber kilns was not considered prior to promulgation of the PCWP rule, we request comment and data to support a determination of whether the PCWP rule should include drying of utility poles in lumber kilns.

Specifically, we request comment on the physical and operational similarities and differences in lumber kilns used to dry sawn lumber and utility poles in terms of kiln design, wood moisture content, drying temperatures, and emissions characteristics. We also request comment on whether the final PCWP rule should be amended to include a definition of “lumber,” to be used with the definition of “lumber kiln” in the final rule, and if so, suggestions for a definition of “lumber.” For example, one broad definition of lumber could be: “Lumber” means green (undried) timber sawed or split into planks or boards, green timber cut or sanded into wood components, and green timber processed for use as utility poles).

VI. Statutory and Executive Order Reviews

A. Executive Order 12866: Regulatory Planning and Review

Under Executive Order 12866 (58 FR 51735, October 4, 1993), EPA must determine whether the regulatory action is “significant” and, therefore, subject to review by the Office of Management and Budget (OMB) and the requirements of the Executive Order. The Executive Order defines a “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlement, grants, user fees, or loan programs, or the rights and obligations of recipients thereof; or

(4) Raise novel legal or policy issues arising out of legal mandates, the President's priorities, or the principles set forth in the Executive Order.

Pursuant to the terms of Executive Order 12866, it has been determined that today's proposed amendments are a “significant regulatory action” because they raise novel legal or policy issues. As such, the proposed amendments were submitted to OMB for review under Executive Order 12866. Changes made in response to OMB suggestions or recommendations are documented in the public record (see ADDRESSES section of this preamble).

B. Paperwork Reduction Act

This action does not impose any new information collection burden. We are not proposing any new paperwork (e.g., monitoring, reporting, recordkeeping) as part of today's notice. With this action we are seeking additional comments on some of the provisions finalized in the July 2004 Federal Register Notice (69 FR 45943). However, OMB has previously approved the information collection requirements contained in the existing regulations (40 CFR part 63) under the provisions of the Paperwork Reduction Act, 44 U.S.C. 3501 et seq., and has assigned OMB control number 2060-0552, EPA ICR number 1984.02. A copy of the OMB approved Information Collection Request (ICR) may be obtained from Susan Auby, Collection Strategies Division; EPA (2822T); 1200 Pennsylvania Ave., NW., Washington, DC 20460 or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations are listed in 40 CFR part 9 and 48 CFR chapter 15.

C. Regulatory Flexibility Act

The Regulatory Flexibility Act generally requires an agency to prepare a regulatory flexibility analysis of any rule subject to notice and comment rulemaking requirements under the Administrative Procedure Act or any other statute unless the agency certifies that the rule will not have a significant economic impact on a substantial number of small entities. Small entities include small businesses, small not-for-profit enterprises, and small governmental jurisdictions.

For purposes of assessing the impacts of today's proposed amendments on small entities, a small entity is defined as: (1) A small business having no more than 500 to 750 employees, depending on the business' NAICS code; (2) a small governmental jurisdiction that is a government of a city, county, town, school district or special district with a population of less than 50,000; and (3) a small organization that is any not-for-profit enterprise which is independently owned and operated and that is not dominant in its field.

After considering the economic impacts of today's proposed amendments on small entities, I certify that the proposed amendments will not have a significant economic impact on a substantial number of small entities.

In determining whether a rule has a significant economic impact on a substantial number of small entities, the impact of concern is any significant adverse economic impact on small entities, since the primary purpose of the regulatory flexibility analyses is to identify and address regulatory alternatives “which minimize any significant economic impact of the rule on small entities.” 5 U.S.C. 603 and 604. Thus, an agency may certify that a rule will not have a significant economic impact on a substantial number of small entities if the rule relieves regulatory burden, or otherwise has a positive economic effect on all of the small entities subject to the rule. Today's proposed amendments significantly reduce the number of emissions tests (and costs associated with these tests) required for facilities to demonstrate that they are part of the low-risk subcategory. We continue to be interested in the potential impacts of the proposed amendments on small entities and welcome comments on issues related to such impacts.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or by the private sector, of $100 million or more in any 1 year. Before promulgating an EPA rule for which a written statement is needed, section 205 of the UMRA generally requires EPA to identify and consider a reasonable number of regulatory alternatives and adopt the least costly, most cost-effective, or least-burdensome alternative that achieves the objectives of the rule. The provisions of section 205 do not apply when they are inconsistent with applicable law. Moreover, section 205 allows EPA to adopt an alternative other than the least-costly, most cost-effective, or least-burdensome alternative if the Administrator publishes with the final rule an explanation why that alternative was not adopted. Before EPA establishes any regulatory requirements that may significantly or uniquely affect small governments, including tribal governments, it must have developed, under section 203 of the UMRA, a small government agency plan. The plan must provide for notifying potentially affected small governments, enabling officials of affected small governments to have meaningful and timely input in the development of EPA's regulatory proposals with significant Federal intergovernmental mandates, and informing, educating, and advising small governments on compliance with the regulatory requirements.

EPA has determined that today's proposed amendments do not contain a Federal mandate that may result in expenditures of $100 million or more for State, local, and tribal governments, in the aggregate, or the private sector in any 1 year. Although the final rule had annualized costs estimated to range from $74 to $140 million (depending on the number of facilities eventually demonstrating eligibility for the low-risk subcategory), the proposed amendments do not add new requirements that would increase this cost. Thus, today's proposed amendments are not subject to the requirements of sections 202 and 205 of the UMRA. In addition, EPA has determined that the proposed amendments do not significantly or uniquely affect small governments because they contain no requirements that apply to such governments or impose obligations upon them. Therefore, today's proposed amendments are not subject to section 203 of the UMRA.

E. Executive Order 13132: Federalism

Executive Order 13132 (64 FR 43255, August 10, 1999) requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless it consults with State and local officials early in the process of developing the proposed regulation.

If EPA complies by consulting, Executive Order 13132 requires EPA to provide to OMB, in a separately identified section of the preamble to the rule, a federalism summary impact statement (FSIS). The FSIS must include a description of the extent of EPA's prior consultation with State and local officials, a summary of the nature of their concerns and EPA's position supporting the need to issue the regulation, and a statement of the extent to which the concerns of State and local officials have been met. Also, when EPA transmits a draft final rule with federalism implications to OMB for review pursuant to Executive Order 12866, EPA must include a certification from its Federalism Official stating that EPA has met the requirements of Executive Order 13132 in a meaningful and timely manner.

Today's proposed amendments do not have federalism implications. They will not have substantial direct effects on the States, on the relationship between the national government and the States, or on the distribution of power and responsibilities among the various levels of government, as specified in Executive Order 13132. None of the affected facilities are owned or operated by State governments, and the requirements of the proposed amendments will not supersede State regulations that are more stringent. Thus, Executive Order 13132 does not apply to today's proposed amendments.

F. Executive Order 13175: Consultation and Coordination With Indian Tribal Governments

Executive Order 13175 (65 FR 67249, November 6, 2000) requires EPA to develop an accountable process to ensure “meaningful and timely input by tribal officials in the development of regulatory policies that have tribal implications.” “Policies that have tribal implications” are defined in the Executive Order to include regulations that have “substantial direct effects on one or more Indian tribes, on the relationship between the Federal government and Indian tribes, or on the distribution of power and responsibilities between the Federal government and Indian tribes.”

Today's proposed amendments do not have tribal implications. They will not have substantial direct effects on tribal governments, on the relationship between the Federal government and Indian tribes, or on the distribution of power and responsibilities between the Federal government and Indian tribes, as specified in Executive Order 13175. No affected facilities are owned or operated by Indian tribal governments. Thus, Executive Order 13175 does not apply to today's proposed amendments.

G. Executive Order 13045: Protection of Children From Environmental Health and Safety Risks

Executive Order 13045 (62 FR 19885, April 23, 1997) applies to any rule that: (1) Is determined to be “economically significant,” as defined under Executive Order 12866, and (2) concerns an environmental health or safety risk that EPA has reason to believe may have a disproportionate effect on children. If the regulatory action meets both criteria, EPA must evaluate the environmental health or safety effects of the planned rule on children and explain why the planned regulation is preferable to other potentially effective and reasonably feasible alternatives considered by EPA.

Today's proposed amendments are not subject to the Executive Order because EPA does not believe that the environmental health or safety risks associated with the emissions addressed by the proposed amendments present a disproportionate risk to children. The noncancer human health toxicity values we used in our analysis at promulgation (e.g., reference concentrations) are protective of sensitive subpopulations, including children. In addition, for purposes of this rulemaking, EPA has not determined that any of the pollutants in question has the potential for a disproportionate impact on predicted cancer risks due to early-life exposure.

H. Executive Order 13211: Actions That Significantly Affect Energy Supply, Distribution, or Use

Executive Order 13211 (66 FR 28355, May 22, 2001) provides that agencies shall prepare and submit to the Administrator of the Office of Information and Regulatory Affairs, Office of Management and Budget, a Statement of Energy Effects for certain actions identified as “significant energy actions.” Section 4(b) of Executive Order 13211 defines “significant energy actions” as “any action by an agency (normally published in the Federal Register) that promulgates or is expected to lead to the promulgation of a final rule or regulation, including notices of inquiry, advance notices of proposed rulemaking, and notices of proposed rulemaking: (1)(i) That is a significant regulatory action under Executive Order 12866 or any successor order, and (ii) is likely to have a significant adverse effect on the supply, distribution, or use of energy; or (2) that is designated by the Administrator of the Office of Information and Regulatory Affairs as a significant energy action.” Today's proposed amendments are not a “significant energy action” as defined in Executive Order 13211 (66 FR 28355, May 22, 2001) because they are not likely to have a significant adverse effect on the supply, distribution, or use of energy. Further, we have concluded that today's proposed amendments are not likely to have any adverse energy effects.

I. National Technology Transfer and Advancement Act

Section 12(d) of the National Technology Transfer and Advancement Act (NTTAA) of 1995 (Pub. L. 104-113, Section 12(d), 15 U.S.C. 272 note) directs EPA to use voluntary consensus standards in their regulatory and procurement activities unless to do so would be inconsistent with applicable law or otherwise impractical. Voluntary consensus standards are technical standards (e.g., materials specifications, test methods, sampling procedures, business practices) developed or adopted by one or more voluntary consensus bodies. The NTTAA directs EPA to provide Congress, through annual reports to the Office of Management and Budget (OMB), with explanations when an agency does not use available and applicable voluntary consensus standards.

These amendments involve a technical standard. EPA cites the following standard in this rulemaking: National Council for Air and Stream Improvement, Inc. (NCASI), draft method ISS/FP-A105.01 (2/05), “Impinger Source Sampling Method for Aldehydes, Ketones, And Polar Compounds.”

Consistent with the NTTAA, EPA conducted searches to identify voluntary consensus standards in addition to this method. One voluntary consensus standard was found that is potentially applicable to the NCASI method. This standard is not acceptable as an alternative to the NCASI method, for the reasons stated below.

The German standard VDI 3862 (12/00), “Gaseous Emission Measurement-Measurement of Aliphatic and Aromatic Aldehydes and Ketones by 2,4-Dinitrophenyhydrazine (DNPH) Impinger Method,” is a good impinger method for the sampling and analysis of aldehydes and ketones that includes the use of an external standard, field and analytical blanks, and repeatability tests. However, the VDI method is missing some key quality assurance/quality control (QA/QC) procedures that are included in the NCASI method. Specifically, VDI 3862 (12/00) is missing the use of internal standards, matrix spikes, and surrogate standards in the analytical step, as well as a duplicate sample run requirement, and sampling train QA/QC samples such as field, run, and sampling train spikes. Therefore, this VDI method, as written, is not acceptable as an alternative to the draft NCASI method for the purposes of this rule amendment.

Table 4 to subpart DDDD of 40 CFR part 63 and table 2B to appendix B to subpart DDDD of 40 CFR part 63 in this amendment list the testing method included in the regulation. Under §§ 63.7(f) and 63.8(f) of subpart A of the General Provisions, a source may apply to EPA for permission to use alternative test methods or alternative monitoring requirements in place of any required testing methods, performance specifications, or procedures.

List of Subjects in 40 CFR Part 63

Environmental protection, Administrative practice and procedure, Air pollution control, Hazardous substances, Intergovernmental relations, Reporting and recordkeeping requirements.

Dated: July 18, 2005.
Stephen L. Johnson,
Administrator.

For the reasons stated in the preamble, title 40, chapter I, part 63 of the Code of Federal Regulations is proposed to be amended as follows:

PART 63—[AMENDED]

1. The authority citation for part 63 continues to read as follows:

Authority: 42 U.S.C. 7401 et seq.

Subpart A—[Amended]

2. Section 63.14 is amended by adding paragraph (f)(4) to read as follows:

§ 63.14 Incorporation by reference.

* * * * *

(f) * * *

(4) NCASI Method ISS/FP-A105.01, Impinger Source Sampling Method for Selected Aldehydes, Ketones, and Polar Compounds, 2005, NCASI, Research Triangle Park, NC, IBR proposed to be approved for table 4 to subpart DDDD of this part and appendix B to subpart DDDD of this part.

* * * * *

Subpart DDDD—National Emission Standards for Hazardous Air Pollutants: Plywood and Composite Wood Products

3. Revise paragraph (b) of § 63.2232 to read as follows:

§ 63.2232 What parts of my plant does this subpart cover?

* * * * *

(b) The affected source is the collection of dryers, refiners, blenders, formers, presses, board coolers, and other process units associated with the manufacturing of plywood and composite wood products. The affected source includes, but is not limited to, green end operations, refining, drying operations (including any combustion unit exhaust stream routinely used to direct fire process unit(s)), resin preparation, blending and forming operations, pressing and board cooling operations, and miscellaneous finishing operations (such as sanding, sawing, patching, edge sealing, and other finishing operations not subject to other National Emission Standards for Hazardous Air Pollutants (NESHAP)). The affected source also includes onsite storage and preparation of raw materials used in the manufacture of plywood and/or composite wood products, such as resins; onsite wastewater treatment operations specifically associated with plywood and composite wood products manufacturing; and miscellaneous coating operations (§ 63.2292). The affected source includes lumber kilns at PCWP manufacturing facilities and at any other kind of facility.

* * * * *

4. Revise paragraph (a) of § 63.2250 to read as follows:

§ 63.2250 What are the general requirements?

(a) You must be in compliance with the compliance options, operating requirements, and the work practice requirements in this subpart at all times, except during periods of process unit or control device startup, shutdown, and malfunction; prior to process unit initial startup; and during the routine control device maintenance exemption specified in § 63.2251. The compliance options, operating requirements, and work practice requirements do not apply during times when the process unit(s) subject to the compliance options, operating requirements, and work practice requirements are not operating, or during scheduled startup and shutdown periods, and during malfunctions, including unscheduled startups and shutdowns resulting from malfunctions. Startup and shutdown periods must not exceed the minimum amount of time necessary for these events.

* * * * *

5. Add section 63.2252 to read as follows:

§ 63.2252 What are the requirements for process units that have no control or work practice requirements?

For process units not subject to the compliance options or work practice requirements specified in § 63.2240 (including, but not limited to, lumber kilns), you are not required to comply with the compliance options, work practice requirements, performance testing, monitoring, SSM plans, and recordkeeping or reporting requirements of this subpart, or any other requirements in subpart A of this part, except for the initial notification requirements in § 63.9(b).

6. Revise paragraph (d)(1) of § 63.2262 to read as follows:

§ 63.2262 How do I conduct performance tests and establish operating requirements?

* * * * *

(d) * * *

(1) Sampling sites must be located at the inlet (if emission reduction testing or documentation of inlet methanol or formaldehyde concentration is required) and outlet of the control device (defined in § 63.2292) and prior to any releases to the atmosphere. For control sequences with wet control devices (defined in § 63.2292) followed by control devices (defined in § 63.2292), sampling sites may be located at the inlet and outlet of the control sequence and prior to any releases to the atmosphere.

* * * * *

7. Revise paragraph (c) introductory text of § 63.2269 to read as follows:

§ 63.2269 What are my monitoring installation, operation, and maintenance requirements?

* * * * *

(c) Wood moisture monitoring. For each furnish or veneer moisture meter, you must meet the requirements in paragraphs (a)(1) through (3) and paragraphs (c)(1) through (5) of this section.

* * * * *

8. In § 63.2292, revise the definitions for “affected source,” “plywood,” “plywood and composite wood products manufacturing facility,” and “tube dryer” and add definitions for “direct-fired process unit,” “engineered wood product,” and “molded particleboard” to read as follows:

§ 63.2292 What definitions apply to this subpart?

* * * * *

Affected source means the collection of dryers, refiners, blenders, formers, presses, board coolers, and other process units associated with the manufacturing of plywood and composite wood products. The affected source includes, but is not limited to, green end operations, refining, drying operations (including any combustion unit exhaust stream routinely used to direct fire process unit(s)), resin preparation, blending and forming operations, pressing and board cooling operations, and miscellaneous finishing operations (such as sanding, sawing, patching, edge sealing, and other finishing operations not subject to other NESHAP). The affected source also includes onsite storage of raw materials used in the manufacture of plywood and/or composite wood products, such as resins; onsite wastewater treatment operations specifically associated with plywood and composite wood products manufacturing; and miscellaneous coating operations (defined elsewhere in this section). The affected source includes lumber kilns at PCWP manufacturing facilities and at any other kind of facility.

* * * * *

Direct-fired process unit means a process unit that is heated by the passing of combustion exhaust directly through the process unit such that the process material is contacted by the combustion exhaust.

* * * * *

Engineered wood product means a product made with lumber, veneers, strands of wood, or from other small wood elements that are bound together with resin (including polyvinyl acetate (PVA) resin or hot melt glue). Engineered wood products are generally designed for use in the same applications as sawn lumber. Engineered wood products include, but are not limited to, laminated strand lumber, laminated veneer lumber, wood I-joists, and glue-laminated beams.

* * * * *

Molded particleboard means a shaped composite product (other than a composite panel) composed primarily of cellulosic materials (usually wood or agricultural fiber) generally in the form of discrete pieces or particles, as distinguished from fibers, which are pressed together with resin.

* * * * *

Plywood means a panel product consisting of layers of wood veneers hot pressed together with resin. Plywood includes panel products made by hot pressing (with resin) veneers to a substrate such as particleboard, medium density fiberboard, or lumber. Plywood products may be flat or curved.

Plywood and composite wood products (PCWP) manufacturing facility means a facility that manufactures plywood and/or composite wood products by bonding wood material (fibers, particles, strands, veneers, etc.) or agricultural fiber, generally with resin under heat and pressure, to form a panel, engineered wood product, or other product defined in § 63.2292. Plywood and composite wood products manufacturing facilities also include facilities that manufacture dry veneer and lumber kilns located at any facility. Plywood and composite wood products include, but are not limited to, plywood, veneer, particleboard, molded particleboard, oriented strandboard, hardboard, fiberboard, medium density fiberboard, laminated strand lumber, laminated veneer lumber, wood I-joists, kiln-dried lumber, and glue-laminated beams.

* * * * *

Tube dryer means a single-stage or multi-stage dryer operated by applying heat to reduce the moisture of wood fibers or particles as they are conveyed (usually pneumatically) through the dryer. Resin may or may not be applied to the wood material before it enters the tube dryer. A tube dryer is a process unit.

* * * * *

9. Revise Table 4 to Subpart DDDD of Part 63 to read as follows:

Table 4 to Subpart DDDD of Part 63.—Requirements for Performance Tests
For . . . | You must . . . | Using . . .
1. Each process unit subject to a compliance option in table 1A or 1B to this subpart or used in calculation of an emissions average under § 63.2240(c) | Select sampling port's location and the number of traverse ports | Method 1 or 1A of 40 CFR part 60, appendix A (as appropriate).
2. Each process unit subject to a compliance option in table 1A or 1B to this subpart or used in calculation of an emissions average under § 63.2240(c) | Determine velocity and volumetric flow rate | Method 2 in addition to Method 2A, 2C, 2D, 2F, or 2G in appendix A to 40 CFR part 60 (as appropriate).
3. Each process unit subject to a compliance option in table 1A or 1B to this subpart or used in calculation of an emissions average under § 63.2240(c) | Conduct gas molecular weight analysis | Method 3, 3A, or 3B in appendix A to 40 CFR part 60 (as appropriate).
4. Each process unit subject to a compliance option in table 1A or 1B to this subpart or used in calculation of an emissions average under § 63.2240(c) | Measure moisture content of the stack gas | Method 4 in appendix A to 40 CFR part 60; OR Method 320 in appendix A to 40 CFR part 63; OR ASTM D6348-03 (IBR, option in table see § 63.14(b))
5. Each process unit subject to a compliance option in table 1B to this subpart for which you choose to demonstrate compliance using a total HAP as THC compliance option | Measure emissions of total HAP as THC | Method 25A in appendix A to 40 CFR part 60. You may measure emissions of methane using EPA Method 18 in appendix A to 40 CFR part 60 and subtract the methane emissions from the emissions of total HAP as THC.
6. Each process unit subject to a compliance option in table 1A to this subpart; OR for each process unit used in calculation of an emissions average under § 63.2240(c) | Measure emissions of total HAP (as defined in § 63.2292) | Method 320 in appendix A to 40 CFR part 63; OR the NCASI Method IM/CAN/WP-99.02 (IBR, see § 63.14(f)); OR the NCASI Method ISS/WP-A105.01 (IBR, see § 63.14(f)); OR ASTM D6348-03 (IBR, see § 63.14(b)) provided that percent R as determined in Annex A5 of ASTM D6348-03 is equal or greater than of 70 percent and less than or equal to 130 percent.
7. Each process unit subject to a compliance option in table 1B to this subpart for which you choose to demonstrate compliance using a methanol compliance option | Measure emissions of methanol | Method 308 in appendix A to 40 CFR part 63; OR Method 320 in appendix A to 40 CFR part 63; OR the NCASI Method CI/WP-98.01 (IBR, see § 63.14(f)); OR the NCASI Method IM/CAN/WP-99.02 (IBR, see § 63.14(f)); OR the NCASI Method ISS/WP-A105.01 (IBR, see § 63.14(f)).
8. Each process unit subject to a compliance option in table 1B to this subpart for which you choose to demonstrate compliance using a formaldehyde compliance option | Measure emissions of formaldehyde | Method 316 in appendix A to 40 CFR part 63; OR Method 320 in appendix A to 40 CFR part 63; OR Method 0011 in “Test Methods for Evaluating Solid Waste, Physical/Chemical Methods” (EPA Publication No. SW-846) for formaldehyde; OR the NCASI Method CI/WP-98.01 (IBR, see § 63.14(f)); OR the NCASI Method IM/CAN/WP-99.02 (IBR, see § 63.14(f)); OR the NCASI Method ISS/WP-A105.01 (IBR, see § 63.14(f)).
9. Each reconstituted wood product press at a new or existing affected source or reconstituted wood product board cooler at a new affected source subject to a compliance option in table 1B to this subpart or used in calculation of an emissions average under § 63.2240(c) | Meet the design specifications included in the definition of wood products enclosures in § 63.2292) or, determine the percent capture efficiency of the enclosure directing emissions to an add-on control device | Methods 204 and 204A through 204F of 40 CFR part 51, appendix M, to determine capture efficiency (except for wood products enclosures as defined in § 63.2292). Enclosures that meet the definition of wood products enclosure or that meet Method 204 requirements for a permanent total enclosure (PTE) are assumed to have a capture efficiency of 100 percent. Enclosures that do not meet either the PTE requirements or design criteria for a wood products enclosure must determine the capture efficiency by constructing a TTE according to the requirements of Method 204 and applying Methods 204A through 204F (as appropriate). As an alternative to Methods 204 and 204A through 204F, you may use the tracer gas method contained in appendix A to this subpart.
10. Each reconstituted wood product press at a new or existing affected source or reconstituted wood product board cooler at a new affected source subject to a compliance option in table 1A to this subpart | Determine the percent capture efficiency | A TTE and Methods 204 and 204A through 204F (as appropriate) of 40 CFR part 51, appendix M. As an alternative to installing a TTE and using Methods 204 and 204A through 204F, you may use the tracer gas method contained in appendix A to this subpart. Measured emissions divided by the capture efficiency provides the emission rate.
11. Each process unit subject to a compliance option in tables 1A and 1B to this subpart or used in calculation of an emissions average under § 63.2240(c) | Establish the site-specific operating requirements (including the parameter limits or THC concentration limits) in table 2 to this subpart | Data from the parameter monitoring system or THC CEMS and the applicable performance test methods(s).

* * * * *

Appendix A to Subpart DDDD of Part 63—Alternative Procedure To Determine Capture Efficiency From Enclosures Around Hot Presses in the Plywood and Composite Wood Products Industry Using Sulfur Hexafluoride Tracer Gas

10. Revise paragraphs 10.4 and 10.5 of section 10 to read as follows:

10.0 Calibration and Standardization.

* * * * *

10.4 Gas Chromatograph. Follow the pre-test calibration requirements specified in section 8.5.1.

10.5 Gas Chromatograph for Ambient Sampling (Optional). For the optional ambient sampling, follow the calibration requirements specified in section 8.5.1 or ASTM E 260 and E 697 and by the equipment manufacturer for gas chromatograph measurements.

Appendix B to Subpart DDDD of Part 63—Methodology and Criteria for Demonstrating That an Affected Source Is Part of the Low-Risk Subcategory of Plywood and Composite Wood Products Manufacturing Affected Sources

11. In section 4, revise paragraph (a) to read as follows:

4. What are the criteria for determining if my affected source is low risk?

(a) Determine the individual HAP emission rates from each process unit emission point within the affected source using the procedures specified in section 5 of this appendix.

* * * * *

12. In section 5, revise paragraphs (a), (f)(1), and (f)(2) and add paragraphs (i) through (k) to read as follows:

5. How do I determine HAP emissions from my affected source?

(a) You must determine HAP emissions for every process unit emission point within the affected source that emits one or more of the HAP listed in Table 1 to this appendix as specified in Table 2A to this appendix. For each process unit type, Table 2A to this appendix specifies whether emissions testing is required or if emissions estimation is allowed as an alternative to emissions testing. If emissions estimation is allowed according to Table 2A, you must develop your emission estimates according to the requirements in paragraph (k) of this section. You may choose to perform emissions testing instead of emissions estimation. You must conduct HAP emissions tests according to the requirements in paragraphs (b) through (j) of this section and the methods specified in Table 2B to this appendix. For each of the emission points at your affected source, you must obtain the emission rates in pounds per hour (lb/hr) for each of the pollutants listed in Table 1 to this appendix.

* * * * *

(f) * * *

(1) The method detection limit is less than or equal to 1 part per million by volume, dry (ppmvd) for pollutant emissions measured using Method 320 in appendix A to 40 CFR part 63; or Method 18 in appendix A to 40 CFR part 60; or the NCASI Method IM/CAN/WP-99.02 (incorporated by reference (IBR), see 40 CFR 63.14(f)); or NCASI Method ISS/FP-A105.01 (IBR, see 40 CFR 63.14(f); or ASTM D6348-03 (IBR, see 40 CFR 63.14(b)).

(2) For pollutants measured using Method 29 in appendix A to 40 CFR part 60, you analyze samples using atomic absorption spectroscopy (AAS) or another laboratory method specified in Method 29 in appendix A to 40 CFR part 60 with detection limits lower than or equal to AAS.

* * * * *

(i) Use of previous emissions tests. You may use the results of previous emissions tests provided that the following conditions are met:

(1) The previous emissions tests must have been conducted using the methods specified in Table 2B to this appendix. Previous emission test results obtained using NCASI Method IM/CAN/WP-99.01 are acceptable.

(2) The previous emissions tests must meet the requirements in paragraphs (b) through (j) of this section.

(3) The subject process unit(s) must be operated in the same manner (e.g., same raw material type, same operating temperature, etc.) as during the previous emissions test(s) and the process unit(s) may not have been modified such that emissions would be expected to differ (notwithstanding normal test-to-test variability) from the previous emissions test(s).

(j) Use of test data for similar process units. If you have multiple similar process units at the same plant site, you may apply the test results from one of these process units to the other similar process units for purposes of your low-risk demonstration provided that the following conditions are met:

(1) You must explain how the process units are similar in terms of design, function, heating method, raw materials processed, residence time, change in material moisture content, operating temperature, resin type processed, and any other parameters that may affect emissions.

(2) If the process units have different throughput rates, then you must convert the emission test results to terms of pounds of HAP per unit throughput prior to applying the emissions test data to other similar process units.

(3) If one of the process units would be expected to exhibit higher emissions due to minor differences in process parameters, then you must explain and test the process unit that would be expected to exhibit greater emissions (for example, the unit with a slightly higher temperature set point, dryer processing furnish with slightly higher inlet moisture content, press processing thicker panels, unit with the greater throughput, etc.).

(k) If emissions estimation is allowed, you must follow the procedures in (1) through (3) of this paragraph.

(1) You must use the emission factors or other emission estimation techniques specified in Table 2A to this appendix when developing emission estimates.

(2) You must base your emission estimates on the maximum process unit throughput you will incorporate into your permit according to section 11(b) of this appendix.

(3) For process units with multiple emission points, you must apportion the estimate emissions evenly across each emission point. For example, if you have a process unit with two emission points, and the process unit is estimated to emit 6 lb/hr, you would assign 3 lb/hr to each emission point.

13. Revise paragraphs (a) through (c) of section 6 to read as follows:

6. How do I conduct a look-up table analysis?

* * * * *

(a) Using the emission rate of each HAP required to be included in your low-risk demonstration (determined according to section 5 of this appendix), calculate your total toxicity-weighted carcinogen and noncarcinogen emission rates for each of your emission points using Equations 1 and 2 of this appendix, respectively. Calculate your carcinogen and non-carcinogen weighted average stack height using Equations 3 and 4 of this appendix, respectively.

TWCER = Toxcity-weighted carcinogenic emission rate for each emission point (1b/hr)/(μg/m³)

ERi = Emission rate of pollutant I (lb/hr)

URE = Unit risk estimate for pollutant I, 1 per Microgram per cubic meter (μg/m³)−1

TWNER = Toxicity-weighted noncarcinogenic emission rate for each emission point (lb/hr)/(μg/m³)

ERi = Emission rate of pollutant I (lb/hr)

RfCi = Reference concentration for pollutant I, micrograms per cubic meter (μg/m³)

WAHC = Carcinogen weighted average stack height for use in the carcinogen lookup table (Table 3 to this appendix)

H = Height of each individual stack or emission point (m)

ep = Individual stacks or emission points

n = Total number of stacks and emission points

WAHN = Non-carcinogen weighted average stack height for use in the non-carcinogen lookup table (Table 4 to this appendix)

H = Height of each individual stack or emission point (m)

ep = Individual stacks or emission points

n = Total number of stacks and emission points

(b) Cancer risk. Calculate the total toxicity-weighted carcinogen emission rate for your affected source by summing the toxicity-weighted carcinogen emission rates for each of your emission points. Identify the appropriate maximum allowable toxicity-weighted carcinogen emission rate from Table 3 to this appendix for your affected source using the carcinogen weighted average stack height of your emission points and the minimum distance between any emission point at the affected source and the property boundary. If one or both of these values do not match the exact values in the lookup table, then use the next lowest table value. (Note: If your weighted average stack height is less than 5 meters (m), you must use the 5 m row.) Your affected source is considered low risk for carcinogenic effects if your toxicity-weighted carcinogen emission rate, determined using the methods specified in this appendix, does not exceed the values specified in Table 3 to this appendix.

(c) Noncancer risk. Calculate the total central nervous system (CNS) and respiratory target organ specific toxicity-weighted noncarcinogen emission rate for your affected source by summing the toxicity-weighted emission rates for each of your emission points. Identify the appropriate maximum allowable toxicity-weighted noncarcinogen emission rate from Table 4 to this appendix for your affected source using the non-carcinogen weighted average stack height of your emission points and the minimum distance between any emission point at the affected source and the property boundary. If one or both of these values do not match the exact values in the lookup table, then use the next lowest table value. (Note: If your weighted average stack height is less than 5 m, you must use the 5 m row.) Your affected source is considered low risk for noncarcinogenic effects if your toxicity-weighted noncarcinogen emission rate, determined using the methods specified in this appendix, does not exceed the values specified in Table 4 to this appendix.

* * * * *

14. Revise paragraph (a) of section 7 to read as follows:

7. How do I conduct a site-specific risk assessment?

(a) Perform a site-specific risk assessment following the procedures specified in this section. You may use any scientifically-accepted peer-reviewed assessment methodology for your site-specific risk assessment. An example of one approach to performing a site-specific risk assessment for air toxics that may be appropriate for your affected source can be found in the “Air Toxics Risk Assessment Guidance Reference Library, Volume 2, Site-Specific Risk Assessment Technical Resource Document.” You may obtain a copy of the “Air Toxics Risk Assessment Reference Library” through EPA's air toxics Web site at http://www.epa.gov/ttn/fera/risk_atra_main.html.

* * * * *

15. Revise paragraphs (a)(3), (b)(1), and (b)(3) of section 8 to read as follows:

8. What information must I submit for the low-risk demonstration?

(a) * * *

(3) Emission test reports for each pollutant and process unit based on the testing requirements and methods specified in Tables 2A and 2B to this appendix, including a description of the process parameters identified as being worst case. You must submit your emissions calculations for each pollutant and process unit for which emissions estimates are developed.

* * * * *

(b) * * *

(1) Identification of the stack heights for each emission point included in the calculations of weighted average stack height.

* * * * *

(3) Calculations used to determine the toxicity-weighted carcinogen and noncarcinogen emission rates and weighted average stack heights according to section 6(a) of this appendix.

* * * * *

16. Revise paragraphs (a) and (c) of section 10 to read as follows:

10. When do I submit my low-risk demonstration?

* * * * *

(a) If you have an existing affected source, you must complete and submit for approval your low-risk demonstration no later than April 1, 2007. * * *

(c) If you have a new or reconstructed affected source you must conduct the emission tests specified in section 5 of this appendix by September 28, 2004 or upon initial startup (whichever is later) and use the results of these emissions tests to complete and submit your low-risk demonstration within 180 days following September 28, 2004 or your initial startup date (whichever is later). * * *

17. Revise paragraph (b) of section 11 to read as follows:

11. How does my affected source become part of the low-risk subcategory of PCWP facilities?

* * * * *

(b) Following EPA approval, the parameters that defined your affected source as part of the low-risk subcategory (including, but not limited to, production rate, annual emission rate, type of control devices, process parameters reflecting the emissions rates used for your low-risk demonstration) must be submitted for incorporation as federally enforceable terms and conditions into your title V permit. You must submit an application for a significant permit modification to reopen your title V permit to incorporate such terms and conditions according to the procedures and schedules of 40 CFR part 71 or the EPA-approved program in effect under 40 CFR part 70, as applicable.

18. Revise section 15 to read as follows:

15. Definitions.

The definitions in § 63.2292 of 40 CFR part 63, subpart DDDD, apply to this appendix. Additional definitions applicable for this appendix are as follows:

Agricultural fiber board press means a press used in the production of an agricultural fiber based composite wood product. An agricultural fiber board press is a process unit.

Agricultural fiberboard mat dryer means a dryer used to reduce the moisture of wet-formed agricultural fiber mats by operation at elevated temperature. An agricultural fiberboard mat dryer is a process unit.

Atmospheric refiner means a piece of equipment operated under atmospheric pressure for refining (rubbing or grinding) the wood material into fibers or particles. Atmospheric refiners are operated with continuous infeed and outfeed of wood material and atmospheric pressures throughout the refining process. An atmospheric refiner is a process unit.

Blending and forming operations means the process of mixing adhesive and other additives with the (wood) furnish of the composite panel and making a mat of resinated fiber, particles, or strands to be compressed into a reconstituted wood product such as particleboard, oriented strandboard, or medium density fiberboard. Blending and forming operations are process units.

Emission point means an individual stack or vent from a process unit that emits HAP required for inclusion in the low-risk demonstration specified in this appendix. Process units may have multiple emission points.

Fiber washer means a unit in which water-soluble components of wood (hemicellulose and sugars) that have been produced during digesting and refining are removed from the wood fiber. Typically wet fiber leaving a refiner is further diluted with water and then passed over a filter, leaving the cleaned fiber on the surface. A fiber washer is a process unit.

Finishing sander means a piece of equipment that uses an abrasive drum, belt, or pad to impart smoothness to the surface of a plywood or composite wood product panel and to reduce the panel to the prescribed thickness. A finishing sander is a process unit.

Finishing saw means a piece of equipment used to trim or cut finished plywood and composite wood products panels to a certain size. A finishing saw is a process unit.

Hardwood plywood press means a hot press which, through heat and pressure, bonds assembled hardwood veneers (including multiple plies of veneer and/or a substrate) and resin into a hardwood plywood panel. A hardwood plywood press is a process unit.

Hardwood veneer kiln means an enclosed dryer operated in batch cycles at elevated temperature to reduce the moisture content from stacked hardwood veneer. A hardwood veneer kiln is a process unit.

Hazard Index (HI) means the sum of more than one hazard quotient for multiple substances and/or multiple exposure pathways.

Hazard Quotient (HQ) means the ratio of the predicted media concentration of a pollutant to the media concentration at which no adverse effects are expected. For inhalation exposures, the HQ is calculated as the air concentration divided by the reference concentration (RfC).

Humidifier means a process unit used to increase the moisture content of hardboard following pressing or after post-baking. Typically, water vapor saturated air is blown over the hardboard surfaces in a closed cabinet. A humidifier is a process unit.

I-joist curing chamber means an oven or a room surrounded by a solid wall or heavy plastic flaps that uses heat, infrared, or radio-frequency techniques to cure the adhesive. An I-joist curing chamber is a process unit.

Log chipping means the production of wood chips from logs.

Log vat means a process unit that raises the temperature of the logs inside by applying a heated substance, usually hot water and steam, to the outside of the logs by spraying or soaking. A log vat is a process unit.

Look-up table analysis means a risk screening analysis based on comparing the toxicity-weighted HAP emission rate from the affected source to the maximum allowable toxicity-weighted HAP emission rates specified in Tables 3 and 4 to this appendix.

LSL press means a composite wood product press that presses a loose mat of resinated strands into a billet by simultaneous application of heat and pressure and forms laminated strand lumber. An LSL press is a process unit.

LVL press means a composite wood product press that presses resinated stacks of veneers into a solid billet by simultaneous application of heat and pressure and forms laminated veneer lumber or parallel strand lumber. An LVL press is a process unit.

Natural gas means a naturally occurring mixture of hydrocarbon and non-hydrocarbon gases found in geologic formations beneath the earth's surface. The principal hydrocarbon constituent is methane.

Paddle-type particleboard dryer means a dryer that uses elevated temperature to remove moisture from particles and paddles to advance materials through the dryer. This type of dryer removes moisture absorbed by particles due to high ambient temperature. A paddle-type particleboard dryer is a process unit.

Panel-trim chipper means a piece of equipment that accepts the discarded pieces of veneer or pressed plywood and composite wood products panels that are removed by finishing saws and reduces these pieces to small elements. A panel-trim chipper is a process unit.

Particleboard extruder means a heated die oriented either horizontally or vertically through which resinated particles are continuously forced to form extruded particleboard products. A particleboard extruder is a process unit.

Particleboard press mold means a press that consists of molds that apply heat and pressure to form molded or shaped particleboard products. A particleboard press mold is a process unit.

Propane means a colorless gas derived from petroleum and natural gas, with the molecular structure C3H8.

Radio-frequency veneer redryer means a dryer heated by radio-frequency waves that is used to redry veneer that has been previously dried. A radio-frequency veneer redryer is a process unit.

Reference Concentration (RfC) means an estimate (with uncertainty spanning perhaps an order of magnitude) of a continuous inhalation exposure to the human population (including sensitive subgroups) that is likely to be without an appreciable risk of deleterious effects during a lifetime. It can be derived from various types of human or animal data, with uncertainty factors generally applied to reflect limitations of the data used.

Resin storage tank means any storage tank, container, or vessel connected to plywood and composite wood product production that contains resin additives. A resin storage tank is a process unit.

Rotary agricultural fiber dryer means a rotary dryer operated at elevated temperature and used to reduce the moisture of agricultural fiber. A rotary agricultural fiber dryer is a process unit.

Softwood plywood press means a hot press which, through heat and pressure, bonds assembled softwood veneer plies and resin into a softwood plywood panel. A softwood plywood press is a process unit.

Softwood veneer kiln means an enclosed dryer operated in batch cycles at elevated temperature to reduce the moisture content from stacked softwood veneer. A softwood veneer kiln is a process unit.

Stand-alone digester means a pressure vessel used to heat and soften wood chips (usually by steaming) before the chips are sent to a separate process unit for refining into fiber. A stand-alone digester is a process unit.

Target organ specific hazard index (TOSHI) means the sum of hazard quotients for individual chemicals that affect the same organ or organ system (e.g., respiratory system, central nervous system).

Unit Risk Estimate (URE) means the upper-bound excess lifetime cancer risk estimated to result from continuous exposure to an agent at a concentration of 1 microgram per cubic meter (μg/m³) in air.

Wastewater/process water operation means equipment that processes water in plywood or composite wood product facilities for reuse or disposal. Wastewater/process water operations includes but is not limited to pumps, holding ponds and tanks, cooling and heating operations, settling systems, filtration systems, aeration systems, clarifiers, pH adjustment systems, log storage ponds, pollution control device water (including wash water), vacuum distillation systems, sludge drying and disposal systems, spray irrigation fields, and connections to POTW facilities. Wastewater/process water operations are process units.

Worst-case operating conditions means operation of a process unit during emissions testing under the conditions that result in the highest HAP emissions or that result in the emissions stream composition (including HAP and non-HAP) that is most challenging for the control device if a control device is used. For example, worst case conditions could include operation of the process unit at maximum throughput, at its highest temperature, with the wood species mix likely to produce the most HAP, and/or with the resin formulation containing the greatest HAP.

19. Add Table 2A to read as follows:

Table 2A.—to Appendix B to Subpart DDDD of 40 CFR Part 63. Testing and Emissions Estimation Specifications for Process Units.
Process unit type | Acetaldehyde | Acrolein | Formaldehyde | Phenol | Benzene | MDI | HAP metals from direct-fired process units ᵇ
Agricultural fiberboard mat dryers, Dry rotary dryers, Fiberboard mat dryer (heated zones), Green rotary dryers, Hardboard ovens, Hardwood veneer dryers (heated zones), Paddle-type particleboard dryers, Press predryers, Rotary agricultural fiber dryers, Rotary strand dryers, Softwood veneer dryers (heated zones), Veneer redryers (heated by conventional means) | test | test | test | test | test | NA | test.
Atmospheric refiners, Conveyor strand dryers, Pressurized refiners | test | test | test | test | test | NA | NA.
Primary tube dryers, Secondary tube dryers | test | test | test | test | test | test if processing furnish with MDI resin added prior to drying | test.
Agricultural fiber board presses, Reconstituted wood products presses, Reconstituted wood product board coolers | test | test | test | test | test | test if board contains MDI resin | NA.
Blending and forming operations—particleboard and MDF | NA | NA | 0.060 lb/DOT | NA | NA | engineering estimate if MDI resin used | NA.
Blending and forming operations—OSB | NA | NA | 0.0036 lb/MSF ⅜″ press throughput | engineering estimate | NA | engineering estimate if MDI resin used | NA.
Dry forming—hardboard | engineering estimate | NA | engineering estimate | engineering estimate | NA | NA | NA.
Fiber washers | 0.015 lb/ODT | NA | 0.0026 lb/ODT | NA | NA | NA | NA.
Fiberboard mat dryer (fugitive emissions) | 0.0055 lb/MSF ½″ | NA | 0.031lb/MSF ½″ | NA | NA | NA | NA
Finishing sanders | 0.0028 lb/MSF ⅜″ | NA | 0.0042 lb/MSF | 0.015 lb/MSF | NA | engineering estimate if MDI resin used | NA.
Finishing saws | 0.00092 lb/MSF ⅜″ | NA | 0.00034 lb/MSF ⅜″ | 0.0057 lb/MSF | NA | engineering estimate if MDI resin used | NA.
Hardwood plywood presses | NA | NA | 0.0088 lb/MSF ⅜″ | 0.016 lb/MSF ⅜″ | NA | NA | NA.
Hardwood veneer dryer (cooling zones) | 0.058 lb/MSF ⅜″ | NA | 0.013 lb/MSF ⅜″ | NA | NA | NA | NA.
Hardwood veneer kilns | 0.067 lb/MSF ⅜″ | NA | 0.016 lb/MSF ⅜″ | 0.0053 lb/MSF ⅜″ | NA | NA | NA.
Humidifiers | 0.0018 lb/MSF ⅛″ | 0.0087 lb/MSF ⅛″ | 0.0010 lb/MSF ⅛″ | 0.00057 lb/MSF ⅛″ | 0.0000062 lb/MSF ⅛″ | NA | NA.
I-joist curing chambers | NA | NA | 0.0018 lb/MSF | NA | NA | engineering estimate if MDI resin used | NA.
Log vats | 0.0047 lb/MSF ⅜″ removed from vate per hour | NA | NA | NA | NA | NA | NA.
LSL presses | engineering estimate | NA | 0.029 lb/1000 ft ³ | engineering estimate | NA | 0.18 lb/1000 ft ³ | NA.
LVL presses | 0.29 lb/1000 ft ³ | NA | 0.79 lb/1000 ft ³ | NA | NA | NA | NA.
Lumber kilns | 0.065 lb/MBF | 0.009 lb/MBF | 0.034 lb/MBF | 0.010 lb/MBF | NA | NA | Engineering estimate.
Panel-trim chippers | 0.00081 lb/MSF ⅜″ finished board production | NA | 0.00034 lb/MSF ⅜″ finished board production | 0.0019 lb/MSF ⅜″ finished board production | NA | NA | NA.
Particleboard press molds, Particleboard extruders | 0.034 lb/MSF ¾″ | 0.0087 lb/MSF ¾″ | 0.64 lb/MSF ¾″ | 0.024 lb/MSF ¾″ | 0.0073 lb/MSF ¾″ | NA | NA.
Radio-frequency veneer redryers | 0.0029 lb/MSF ⅜″ | NA | 0.00065 lb/MSF ⅜″ | NA | NA | NA | NA.
Resin storage tanks | NA | NA | 0.19 lb/hr per tank for tanks with resin containing formaldehyde OR model using TANKS software ᵃ | 0.18 lb/hr per tank for tanks with resin containing phenol OR model using TANKS software ᵃ | NA | 0.0013 lb/hr per tank for tanks with MDI resin OR model using TANKS software ᵃ | NA.
Softwood plywood presses | 0.012 lb/MSF ⅜″ | NA | 0.0054 lb/MSF ⅜″ | 0.0022 lb/MSF ⅜″ | NA | NA | NA.
Softwood veneer dryers (cooling zones) | 0.012 lb/MSF ⅜″ | NA | 0.0028 lb/MSF ⅜″ | 0.011 lb/MSF ⅜″ | NA | NA | NA.
Softwood veneer kilns | 0.097 lb/MSF ⅜″ | 0.012 lb/MSF ⅜″ | 0.010 lb/MSF ⅜″ | 0.020 lb/MSF ⅜″ | 0.0078 lb/MSF ⅜″ | NA | NA.
Stand-alone digesters | 0.030 lb/ODT | 0.0024 lb/ODT | 0.0045 lb/ODT | 0.0012 lb/ODT | NA | NA | NA.
Wastewater/process water operations | engineering estimate (such as WATER9 ᵃ or other method) | engineering estimate (such as WATER9 ᵃ or other method) | engineering estimate (such as WATER9 ᵃ or other method) | engineering estimate (such as WATER9 ᵃ or other method) | engineering estimate (such as WATER9 ᵃ or other method) | engineering estimate (such as WATER9 ᵃ or other method) if MDI resin used | NA.
Wet forming—fiberboard and hardboard (without PF resin) | 0.0075 lb/MSF ½″ | NA | 0.0036 lb/MSF ½″ | NA | NA | NA | NA.
Wet forming—hardboard (PF resin) | 0.0067 lb/ODT | NA | 0.00039 lb/ODT | 0.00075 lb/ODT | NA | NA | NA.
Miscellaneous coating operations, Log chipping, Softwood veneer dryer fugitive emissions | NA | NA | NA | NA | NA | NA | NA.
Other ancillary processes (not listed elsewhere in this table) that may emit HAP listed in this table | engineering estimate | engineering estimate | engineering estimate | engineering estimate | engineering estimate | engineering estimate | engineering estimate
test: Emissions testing must be conducted for the process unit and pollutant according to the test methods specified in Table 2B to appendix B to supbart DDDD.
NA: Not applicable. No emission estimates or emissions testing is required for purposes of the low-risk demonstration.
lb/50 MSF: Pounds of HAP per thousand square feet of board of the inches thickness specified (e.g., lb/MSF ¾ = pounds of HAP per thousand square feet of ¾-inch board). See equation in § 63.2262(j) of subpart DDDD to convert from one thickness basis to another.
lb/ODT: 50 Pounds of HAP per oven dried ton of wood material.
lb/MBF: Pounds of HAP per thousand board feet.
lb/MLF: Pounds of HAP per thousand linear feet.
ᵃ TANKS and WATER9 software is available at http://www.epa.gov/ttn/chief.software/index.html.
ᵇ Excludes direct-fired process units fired with only natural gas or propane.

20. Redesignate Table 2 as Table 2B and revise to read as follows:

Table 2B to Appendix B to Subpart DDDD of 40 CFR part 63.—Emission Test Methods
For . . . | You must . . . | Using . . .
1. Each process unit required to be tested according to table 2A to this appendix | Select sampling ports' location and the number of traverse points | Method 1 or 1A of 40 CFR part 60, appendix A (as appropriate).
2. Each process unit required to be tested according to table 2A to this appendix | Determine velocity and volumetric flow rate | Method 2 in addition to Method 2A, 2C, 2D, 2F, or 2G in appendix A to 40 CFR part 60 (as appropriate).
3. Each process unit required to be tested according to table 2A to this appendix | Conduct gas molecular weight analysis | Method 3, 3A, or 3B in appendix A to 40 CFR part 60 (as appropriate).
4. Each process unit required to be tested according to table 2A to this appendix | Measure moisture content of the stack gas | Method 4 in appendix A to 40 CFR part 60.
5. Each process unit required to be tested according to table 2A to this appendix | Measure emissions of the following HAP: Acetaldehyde, acrolein, formaldehyde, and phenol | NCASI Method IM/CAN/WP-99.02 (IBR, see 40 CFR 63.14(f)); OR Method 320 in appendix A to 40 CFR part 63; OR the NCASI Method ISS/WP-A105.01 (IBR, see § 63.14(f)); OR ASTM D6348-03 (IBR, see 40 CFR 63.14(b)) provided that percent R as determined in Annex A5 of ASTM D6348-03 is equal or greater than 70 percent and less than or equal to 130 percent.
6. Each process unit required to be tested according to table 2A to this appendix | Measure emissions of benzene | Method 18 in appendix A to 40 CFR part 60; NCASI Method IM/CAN/WP-99.02 (IBR, see 40 CFR 63.14(f)); OR Method 320 in appendix A to 40 CFR part 63; OR ASTM D6348-03 (IBR, see 40 CFR 63.14(b)) provided that percent R as determined in Annex A5 of ASTM D6348-03 is equal or greater than 70 percent and less than or equal to 130 percent.
7. Each process unit that processes material containing MDI resin required to be tested according to table 2A to this appendix | Measure emissions of MDI | Method 320 in appendix A to 40 CFR part 63; OR Conditional Test Method (CTM) 031 which is posted on http://www.epa.gov/ttn/emc/ctm.html.
8. Each direct-fired process unit ᵃ required to be tested according to table 2A to this appendix | Measure emissions of the following HAP metals: Arsenic, beryllium, cadmium, chromium, lead, manganese, and nickel | Method 29 in appendix A to 40 CFR part 60.
9. Each reconstituted wood product press or reconstituted wood product board cooler with a HAP control device | Meet the design specifications included in the definition of wood products enclosure in § 63.2292 of subpart DDDD of 40 CFR part 63 or determine the percent capture efficiency of the enclosure directing emissions to an add-on control device | Methods 204 and 204A through 204F of 40 CFR part 51, appendix M to determine capture efficiency (except for wood products enclosures as defined in § 63.2292). Enclosures that meet the definition of wood products enclosure or that meet Method 204 requirements for a PTE are assumed to have a capture efficiency of 100 percent. Enclosures that do not meet either the PTE requirements or design criteria for a wood products enclosure must determine the capture efficiency by constructing a TTE according to the requirements of Method 204 and applying Methods 204A through 204F (as appropriate). As an alternative to Methods 204 and 204A through 204F, you may use the tracer gas method contained in appendix A to subpart DDDD.
10. Each reconstituted wood product press or reconstituted wood product board cooler required to be tested according to table 2A to this appendix | Determine the percent capture efficiency | A TTE and Methods 204 and 204A through 204F (as appropriate) of 40 CFR part 51, appendix M. As an alternative to installing a TTE and using Methods 204 and 204A through 204F, you may use the tracer gas method contained in appendix A to subpart DDDD. Measured emissions divided by the capture efficiency provides the emission rate.
11. Each process unit with a HAP control device required to be tested according to table 2A to this appendix | Establish the site-specific operating requirements (including the parameter limits or THC concentration limits) in table 2 to subpart DDDD | Data from the parameter monitoring system or THC CEMS and the applicable performance test method(s).
ᵃ Excludes direct-fired process units fired with only natural gas or propane.

21. Revise Table 3 to read as follows:

Table 3 to Appendix B to Subpart DDDD of 40 CFR Part 63.—Maximum Allowable Toxicity-Weighted Carcinogen Emission Rate (lb/hr)/(μg/m³)
Stack height (m) | Distance to property boundary (m): 0 | Distance to property boundary (m): 50 | Distance to property boundary (m): 100 | Distance to property boundary (m): 150 | Distance to property boundary (m): 200 | Distance to property boundary (m): 250 | Distance to property boundary (m): 500 | Distance to property boundary (m): 1000 | Distance to property boundary (m): 1500 | Distance to property boundary (m): 2000 | Distance to property boundary (m): 3000 | Distance to property boundary (m): 5000
5 | 8.72E-07 | 8.72E-07 | 8.72E-07 | 9.63E-07 | 1.25E-06 | 1.51E-06 | 2.66E-06 | 4.25E-06 | 4.39E-06 | 4.39E-06 | 4.39E-06 | 5.00E-06
10 | 2.47E-06 | 2.47E-06 | 2.47E-06 | 2.47E-06 | 2.47E-06 | 2.61E-06 | 3.58E-06 | 5.03E-06 | 5.89E-06 | 5.89E-06 | 5.89E-06 | 6.16E-06
20 | 5.81E-06 | 5.81E-06 | 5.81E-06 | 5.81E-06 | 5.81E-06 | 5.81E-06 | 5.90E-06 | 7.39E-06 | 8.90E-06 | 9.97E-06 | 9.97E-06 | 1.12E-05
30 | 7.74E-06 | 7.74E-06 | 7.74E-06 | 7.74E-06 | 7.74E-06 | 7.74E-06 | 8.28E-06 | 9.49E-06 | 1.17E-05 | 1.35E-05 | 1.55E-05 | 1.61E-05
40 | 9.20E-06 | 9.20E-06 | 9.20E-06 | 9.20E-06 | 9.20E-06 | 9.20E-06 | 9.24E-06 | 1.17E-05 | 1.34E-05 | 1.51E-05 | 1.98E-05 | 2.22E-05
50 | 1.02E-05 | 1.02E-05 | 1.02E-05 | 1.02E-05 | 1.02E-05 | 1.02E-05 | 1.02E-05 | 1.36E-05 | 1.53E-05 | 1.66E-05 | 2.37E-05 | 2.95E-05
60 | 1.13E-05 | 1.13E-05 | 1.13E-05 | 1.13E-05 | 1.13E-05 | 1.13E-05 | 1.13E-05 | 1.53E-05 | 1.76E-05 | 1.85E-05 | 2.51E-05 | 3.45E-05
70 | 1.23E-05 | 1.23E-05 | 1.23E-05 | 1.23E-05 | 1.23E-05 | 1.23E-05 | 1.23E-05 | 1.72E-05 | 2.04E-05 | 2.06E-05 | 2.66E-05 | 4.07E-05
80 | 1.34E-05 | 1.34E-05 | 1.34E-05 | 1.34E-05 | 1.34E-05 | 1.34E-05 | 1.34E-05 | 1.92E-05 | 2.15E-05 | 2.31E-05 | 2.82E-05 | 4.34E-05
100 | 1.52E-05 | 1.52E-05 | 1.52E-05 | 1.52E-05 | 1.52E-05 | 1.52E-05 | 1.52E-05 | 1.97E-05 | 2.40E-05 | 2.79E-05 | 3.17E-05 | 4.49E-05
200 | 1.76E-05 | 1.76E-05 | 1.76E-05 | 1.76E-05 | 1.76E-05 | 1.76E-05 | 1.76E-05 | 2.06E-05 | 2.94E-05 | 3.24E-05 | 4.03E-05 | 5.04E-05
MIR=1E-06.

22. Revise Table 4 to read as follows:

Table 4 to Appendix B to Subpart DDDD of 40 CFR Part 63.—Maximum Allowable Toxicity-Weighted Noncarcinogen Emission Rate (lb/hr)/(μg/m³)
Stack height (m) | Distance to property boundary (m): 0 | Distance to property boundary (m): 50 | Distance to property boundary (m): 100 | Distance to property boundary (m): 150 | Distance to property boundary (m): 200 | Distance to property boundary (m): 250 | Distance to property boundary (m): 500 | Distance to property boundary (m): 1000 | Distance to property boundary (m): 1500 | Distance to property boundary (m): 2000 | Distance to property boundary (m): 3000 | Distance to property boundary (m): 5000
5 | 2.51E-01 | 2.51E-01 | 3.16E-01 | 3.16E-01 | 3.16E-01 | 3.16E-01 | 3.16E-01 | 3.46E-01 | 4.66E-01 | 6.21E-01 | 9.82E-01 | 1.80E+00
10 | 5.62E-01 | 5.62E-01 | 5.62E-01 | 5.62E-01 | 5.62E-01 | 5.62E-01 | 5.62E-01 | 5.70E-01 | 6.33E-01 | 7.71E-01 | 1.13E+00 | 1.97E+00
20 | 1.43E+00 | 1.43E+00 | 1.43E+00 | 1.43E+00 | 1.43E+00 | 1.43E+00 | 1.43E+00 | 1.43E+00 | 1.68E+00 | 1.83E+00 | 2.26E+00 | 3.51E+00
30 | 2.36E+00 | 2.36E+00 | 2.36E+00 | 2.36E+00 | 2.36E+00 | 2.36E+00 | 2.53E+00 | 3.04E+00 | 3.04E+00 | 3.33E+00 | 4.45E+00 | 5.81E+00
40 | 3.11E+00 | 3.11E+00 | 3.11E+00 | 3.11E+00 | 3.11E+00 | 3.11E+00 | 3.42E+00 | 4.04E+00 | 5.07E+00 | 5.51E+00 | 6.39E+00 | 9.63E+00
50 | 3.93E+00 | 3.93E+00 | 3.93E+00 | 3.93E+00 | 3.93E+00 | 3.93E+00 | 4.49E+00 | 4.92E+00 | 6.95E+00 | 7.35E+00 | 8.99E+00 | 1.25E+01
60 | 4.83E+00 | 4.83E+00 | 4.83E+00 | 4.83E+00 | 4.83E+00 | 4.83E+00 | 5.56E+00 | 6.13E+00 | 7.80E+00 | 1.01E+01 | 1.10E+01 | 1.63E+01
70 | 5.77E+00 | 5.77E+00 | 5.77E+00 | 5.77E+00 | 5.77E+00 | 5.77E+00 | 6.45E+00 | 7.71E+00 | 8.83E+00 | 1.18E+01 | 1.36E+01 | 1.86E+01
80 | 6.74E+00 | 6.74E+00 | 6.74E+00 | 6.74E+00 | 6.74E+00 | 6.74E+00 | 7.12E+00 | 9.50E+00 | 1.01E+01 | 1.29E+01 | 1.72E+01 | 2.13E+01
100 | 8.87E+00 | 8.87E+00 | 8.87E+00 | 8.87E+00 | 8.87E+00 | 8.87E+00 | 8.88E+00 | 1.19E+01 | 1.37E+01 | 1.55E+01 | 2.38E+01 | 2.89E+01
200 | 1.70E+01 | 1.70E+01 | 1.70E+01 | 1.70E+01 | 1.70E+01 | 1.70E+01 | 1.70E+01 | 2.05E+01 | 2.93E+01 | 3.06E+01 | 4.02E+01 | 4.93E+01
HI=1.

[FR Doc. 05-14532 Filed 7-28-05; 8:45 am]

BILLING CODE 6560-50-P